DEPARTMENT OF JUSTICE

Office of Juvenile Justice and Delinquency Prevention

[OJP (OJJDP)-1337F]

Final Program Plan for Fiscal Year 2002

AGENCY: Office of Juvenile Justice and Delinquency Prevention, Office of Justice Programs, Justice.

ACTION: Notice of Final Program Plan for fiscal year 2002.

SUMMARY: The Office of Juvenile Justice and Delinquency Prevention is publishing this notice of its Final Program Plan for fiscal year (FY) 2002.

FOR FURTHER INFORMATION CONTACT: The Office of Juvenile Justice and Delinquency Prevention at 202-307-5911. [This is not a toll-free number.]

SUPPLEMENTARY INFORMATION: The Office of Juvenile Justice and Delinquency Prevention (OJJDP) is a component of the Office of Justice Programs in the U.S. Department of Justice. Pursuant to the provisions of Section 204 (b)(5)(A) of the Juvenile Justice and Delinquency Prevention Act of 1974, as amended, 42 U.S.C. 5601 et seq. (JJDP Act), the Acting Administrator of OJJDP published for public comment a Proposed Plan describing the program activities that OJJDP proposed to carry out during fiscal year (FY) 2002 under Parts C and D of Title II of the JJDP Act, codified at 42 U.S.C. 5651-5665a, 5667, 5667a. The public was invited to comment on OJJDP's Proposed Program Plan for fiscal year 2002, which was published in the Federal Register on October 23, 2001 (66 FR 53692-710). The deadline for submitting comments on the Proposed Plan was December 7, 2001.

During that time period, however, mail delivery to OJJDP was temporarily halted as a result of the extraordinary circumstances arising from the September 11 terrorist acts and subsequent anthrax attacks involving the U.S. mail.

All incoming U.S. Department of Justice mail was quarantined until the threat could be analyzed and screening and safety precautions could be instituted. Consequently, in order to properly review, consider, and respond to any comments submitted by the public on its Proposed Plan, OJJDP temporarily delayed publication of the FY 2002 Final Program Plan. OJJDP has only recently begun to receive its backlogged mail. However, in order to move ahead with publication of the Final Program Plan, OJJDP determined to publicly respond to those comments received by March 1, 2002.

The Acting Administrator analyzed the public comments received, and the comments and OJJDP's responses are provided later in this document. The Acting Administrator took these comments into consideration in developing this Final Plan, which describes the particular program activities that OJJDP intends to fund during FY 2002, using in whole or in part funds appropriated under Parts C and D of Title II of the JJDP Act.

Notice of the official solicitation of grant or cooperative agreement applications for competitive programs to be funded under the Final Plan will be published at a later date in the Federal Register. No proposals, concept papers, or other forms of application should be submitted at this time.

Background

In 1974, the JJDP Act established OJJDP as the Federal agency responsible for providing national leadership, coordination, and resources to develop and implement effective methods to prevent and reduce juvenile delinquency and improve the quality of juvenile justice in the United States. OJJDP performs its role of national leadership in juvenile justice and delinquency prevention through a cycle of activities. These include the following:

• Collecting data and statistics to determine the extent and nature of issues affecting juveniles.

• Supporting research studies that can lead to program demonstrations; testing and evaluating demonstration projects; and sharing lessons learned from the field with practitioners through a range of information dissemination vehicles.

• Providing seed money to States and local governments through formula and block grants to implement programs, projects, or reform efforts.

• Providing training and technical assistance to assist States and local governments to implement programs effectively and to maintain the integrity of model programs as they are being replicated.

OJJDP administers State Formula Grants under Part B of Title II, State Challenge Grants under Part E of Title II, and Community Prevention Grants under Title V of the JJDP Act to assist States and territories to fund a range of delinquency prevention, control, and juvenile justice system improvement activities. OJJDP provides support activities for these programs under statutory set-asides that are used to provide related research, evaluation, statistics, demonstration, and training and technical assistance services.

Under Part C of Title II of the JJDP Act, OJJDP funds Special Emphasis programs and—through its National Institute for Juvenile Justice and Delinquency Prevention—numerous research, evaluation, statistics, demonstration, training and technical assistance, and information dissemination activities. OJJDP funds school- and community-based gang prevention, intervention, and suppression programs under Part D and funds mentoring programs under Part G of Title II of the JJDP Act. OJJDP also coordinates Federal activities related to juvenile justice and delinquency prevention through the Concentration of Federal Efforts Program and serves as the staff agency for the Coordinating Council on Juvenile Justice and Delinquency Prevention. Both of these activities are authorized in Part A of Title II of the JJDP Act. Under Title IV, OJJDP administers the Missing and Exploited Children's Program.

Other programs administered by OJJDP include the following:

• Drug Prevention Program.

• Enforcing Underage Drinking Laws Program.

• Safe Schools Initiative.

• Tribal Youth Program.

• Safe Start: Children Exposed to Violence Initiative.

• Juvenile Accountability Incentive Block Grants program.

• Programs under the Victims of Child Abuse Act of 1990, as amended, 42 U.S.C. 13001 et seq.

In this Final Plan, OJJDP describes its priorities for funding activities authorized under Part C (National Programs) and Part D (Gang-Free Schools and Communities; Community-Based Gang Intervention) of Title II of the Juvenile Justice and Delinquency Prevention (JJDP) Act. The only projects described in this Final Program Plan are those that are eligible to receive Part C or Part D FY 2002 continuation funding under project period or discretionary continuation assistance awards.

Fiscal Year 2002 Program Planning Activities

The OJJDP program planning process for FY 2002 was coordinated with the Assistant Attorney General, Office of Justice Programs, and all OJP components. The program planning process involved the following steps:

• Internal review of existing programs by OJJDP staff.

• Internal review of proposed programs by OJP bureaus and Department of Justice components.

• Review of information and data from OJJDP grantees and contractors.

• Review of information contained in State comprehensive plans.

• Review of comments from youth service providers, juvenile justice practitioners, and researchers who provide input in proposed new program areas.

• Consideration of suggestions made by juvenile justice policymakers concerning State and local needs.

• Consideration of all comments received during the period of public comment on the Proposed Plan.

FY 2002 Program Priorities

During FY 2002, OJJDP will focus its efforts on programs that help prevent or intervene in delinquent behavior by funding activities that provide youth with the skills and values necessary to make choices that lead to positive outcomes. OJJDP also will focus on programs that hold youth accountable for their delinquent actions and on initiatives that prepare serious and violent juvenile offenders to successfully return home to their communities after they leave correctional institutions and training schools.

In response to statutory reforms (most notably the Government Performance and Results Act of 1993, Publ. L. 103-62), OJP has implemented the concepts of performance-based management, which allow OJP to focus on mission, agree on goals, and report on key results that improve government performance and public accountability. As part of OJP's overall efforts, OJJDP is formulating strategic and annual performance plans, setting annual performance targets, and requiring its applicants to provide performance measures based on individual grant program objectives and anticipated results and outcomes.

OJJDP program priorities in FY 2002 include the following:

• Youth reentry programs. OJJDP is participating in the Serious and Violent Offender Reentry Initiative “Going Home”, which was developed by the Office of Justice Programs (OJP), in conjunction with other Federal agencies, including the National Institute of Corrections and Federal partners (the U.S. Departments of Education, Health and Human Services, Housing and Urban Development, and Labor). The Reentry Initiative is a comprehensive effort that addresses both juvenile and adult populations of serious, high-risk offenders. It will provide funding to develop, implement, enhance, and evaluate reentry strategies to ensure the safety of the community and the reduction of serious, violent crime. The initiative seeks to assist targeted offenders in successfully returning to their communities after having served a significant period of secure confinement in a State training school, juvenile or adult correctional facility, or other secure institution. (The “Going Home” initiative was announced January 31, 2002, and applications are due May 15, 2002. For more information, see OJP's Web site at www.ojp.usdoj.gov/reentry.)

• Capacity building in community- and faith-based organizations. The White House Office of Faith-Based and Community Initiatives and OJP/OJJDP will seek to establish a public/private partnership that will leverage the financial and human resources of faith-based and community-based organizations to meet the human services needs of their surrounding neighborhoods. The value of building such partnerships is exemplified by OJJDP's Juvenile Mentoring Program (JUMP), which supports one-to-one mentoring projects for youth at risk of failing in school, dropping out of school, or becoming involved in delinquent behavior, including gang activity and substance abuse. Since 1994, Congress has appropriated more than $56 million to support one-to-one mentoring programs and OJJDP has funded 203 JUMP sites in 47 States and 2 territories. More than 9,200 youth have received one-to-one mentoring, and mentors have been recruited from both the public and private sectors, including faith-based institutions (churches, church-operated charitable organizations and outreach programs, and tribal groups), community-based organizations, American Indian communities and Alaska Native villages, schools, police and fire departments, hospitals, and banks and local businesses. (A notice about the most recent JUMP program announcement was published in the Federal Register on February 8, 2002 [67 FR 6053]. Applications were due March 25, 2002.)

• Juvenile drug use prevention programs. Recognizing the importance of breaking the cycle of juvenile drug abuse and the serious delinquent behavior that often results, OJJDP will develop a demonstration program to help communities select and replicate promising and model drug prevention programs. The initiative also will include a national evaluation.

• School violence prevention programs. OJJDP's efforts in this area include a program to help communities address youth gang problems both in schools and in the community and a program that provides intensive training and technical assistance and collects data to strengthen state and local safe school initiatives.

Primary Program Goals

In addition to the above priorities, the discretionary programs OJJDP administers under Parts C and D of Title II typically address one or more of the four goals that OJJDP has identified as necessary to ensure public safety and security while establishing effective juvenile justice and delinquency prevention programs. Achieving these goals, which are discussed below, is vital to protecting the long-term safety of the public from juvenile delinquency and violence.

• OJJDP promotes delinquency prevention and early intervention efforts that reduce the flow of juvenile offenders into the juvenile justice system, the numbers of serious and violent offenders, and the development of chronic delinquent careers. Although removing serious and violent juvenile offenders from the street serves to protect the public, the real goal is to take aggressive steps to stop delinquency before it starts or becomes a pattern of behavior.

• OJJDP seeks to improve the juvenile justice system and the response of the system to juvenile delinquents, status offenders, and dependent, neglected, and abused children.

• OJJDP supports corrections, detention, and community- and faith-based alternatives which protect the public, incorporate appropriate secure detention and corrections options, and foster the use of community-based programs for juvenile offenders.

• OJJDP supports law enforcement, public safety, and other justice agency efforts to prevent juvenile delinquency, intervene in the development of chronic delinquent careers, and collaborate with the juvenile justice system to meet the needs of dependent, neglected, and abused children.

Fiscal Year 2002 Programs

OJJDP has organized its programs under four broad categories that reflect these four program goals. These categories are Public Safety and Law Enforcement, Delinquency Prevention and Intervention, Strengthening the Juvenile Justice System, and Child Abuse and Neglect and Dependency Cases. An Overarching fifth category contains programs with significant elements common to more than one of the other four categories. The programs that OJJDP expects to support in FY 2002 with Parts C and D funds (based on funding availability, grantee performance, and other factors) are listed alphabetically and summarized later in this document.

As part of the FY 2002 appropriations process, Congress also identified a number of programs for funding consideration with regard to the grantee(s), the amount of funds, or both.

Continuation Discretionary Grants

The continuation projects listed in this program plan are those currently funded in whole or in part with Part C and Part D funds and eligible for continuation funding in FY 2002, either as part of an existing project period or through an extension for an additional project or budget period. A grantee's eligibility for continued funding for an additional budget period within an existing project period depends on the grantee's compliance with funding eligibility requirements and achievement of the prior year's objectives. The amount of award is based on prior projections, demonstrated need, and the availability of funds.

OJJDP will base consideration for continuation funding for an additional project period for previously funded discretionary grant programs on several factors, including the following:

• The extent to which the project meets the applicable requirements of the JJDP Act.

• Responsiveness to OJJDP and Department of Justice FY 2002 program priorities and goals.

• Compliance with performance requirements of prior grant years.

• Compliance with fiscal and regulatory requirements.

• Compliance with any special conditions of the award.

• Availability of funds (based on appropriations and program priority determinations).

In accordance with Section 262 (d)(1)(B) of the JJDP Act, as amended, 42 U.S.C. 5665a, the competitive process for the award of Part C funds is not required if the (Acting) Administrator makes a written determination waiving the competitive process:

“(i). With respect to programs to be carried out in areas with respect to which the President declares under the Robert T. Stafford Disaster Relief and Emergency Assistance Act codified at 42 U.S.C. 5121 et seq. that a major disaster or emergency exists, or

(ii). With respect to a particular program described in Part C that is uniquely qualified.”

Summary of Public Comments on the Proposed Program Plan for Fiscal Year 2002

OJJDP published its Proposed Program Plan for FY 2002 in the Federal Register (Vol. 66, No. 205) on October 23, 2001, for a 45-day public comment period. OJJDP received 21 letters commenting on the Proposed Plan. All comments have been considered in the development of OJJDP's Final Program Plan for Fiscal Year 2002.

The comments received are summarized below together with OJJDP's responses. To avoid needless repetition, all comments on a particular program or area of programming are summarized in one comment paragraph and followed by a single OJJDP response, which applies to all the comments on that topic.

Comment: Six letters from five public interest and civil rights groups and a private citizen suggested that OJJDP should include the Building Blocks for Youth Initiative in its Final Program Plan. By creating an alliance of children's advocates, researchers, law enforcement professionals, and community organizers, the Building Blocks for Youth Initiative seeks to protect minority youth in the justice system and promote rational and effective justice policies.

Response: OJJDP recognizes the great contributions the Building Blocks for Youth initiative has offered in the past. However, competing priorities and fiscal realities have precluded continued funding at this time. Although the juvenile justice system has traditionally maintained responsibility for providing services to juvenile offenders, it is clear that existing resources in communities often go unused. It is these unused resources that OJJDP desires to tap.

Comment: Two writers, an official with a State Juvenile Rehabilitation Administration and an official with the National Mental Health Association (NMHA), commented on the issue of mental health as it pertains to OJJDP's Proposed Plan. The first writer also emphasized the important role OJJDP plays in providing that State with the tools to identify, plan, and train staff to implement best practices programs for juvenile offenders. In recent years, the author wrote, these programs have shown significant evidence of reducing repetitive criminal behavior. However, the writer pointed out, the existence of such programs is currently limited. The writer suggested that a continued opportunity for flexible grant funding (i.e., funding that encourages careful evaluation of outcomes) would lead to a greater number of effective services and programs, which could then be replicated across juvenile justice systems. After remarking that the involvement of faith-based organizations in the Proposed Plan presents an exciting opportunity to expand the State's existing mentoring programs, the writer concluded by discussing that State's unresolved needs (both in terms of staff training and development monies) regarding the growing population of mentally ill youth involved in the juvenile justice system.

Writing in support of the five priorities of the Proposed Plan, the second writer stated that “each of these areas is of interest to NMHA.” The writer, however, suggested revisions to four of the five program priorities. The NMHA recommendations include: (1) The list of services to be offered under the initiative to build capacity in community- and faith-based organizations should be amended to read “mentoring and counseling at-risk youth and children of prisoners, and shelter and counseling for abused and neglected children.” NMHA also recommended that “national funding be available to support technical assistance to community and faith-based partners, to assist them in more effectively participating in and initiating faith-based partnerships in communities.” (2) Regarding the Reentry Initiative, NMHA was “pleased to see substance abuse and mental health intervention and treatment included among the array of services to which the reentry programs will direct sources.” (3) * * * “mental health intervention and treatment [should] be specifically included among promising and model drug prevention programs to be replicated.” (4) NMHA took “serious exception” to programs designed to prevent school violence that are “limited in scope to ‘zero tolerance’ of seriously disruptive students and recommend[ed] that a mental health component be specifically included in the program plan and that a specific reference be provided to the provision of alternative education for any disruptive students who may be removed from class as a result of programs funded by OJJDP under this priority area.” In addition, NMHA recommended that OJJDP make national technical assistance available to schools that “focus on mental health as part of the formula for creating safe schools and healthy students.”

In addition to commenting on four of the program priorities, NMHA also proposed a supplement to OJJDP's FY 2002 Proposed Plan. NMHA suggested that OJJDP include in its Final Plan a new priority and demonstration program that would expand the use of professional mental health screening and indepth assessment for all juveniles upon their entry into the juvenile justice system. The writer added that implementing such a program would address each of the areas set out under the FY 2002 Primary Program Goals. NMHA also suggested modifications to some of the programs eligible for continuation discretionary grants in FY 2002. NMHA's recommended program modifications include: (1) The National Resource Center and the Safe Schools/Healthy Students Action Center should be required to collaborate to help the Resource Center in the area of school mental health and to provide appropriate training, technical assistance, and data collection. (2) “OJJDP [should] specifically require in FY 2002 that products and trainings provided by the project include those that help law enforcement personnel recognize juveniles with mental health problems and disorders.” (3) The Multisite, Multimodal Treatment Study of Children With Attention Deficit/Hyperactivity Disorder should be made “a specific area of investigation * * * [and should] address how to help law enforcement, court, detention, and corrections personnel recognize and provide appropriate treatment for juveniles with mental health problems and disorders.” (4) OJJDP should provide technical assistance to the National Juvenile Detention Association (or order it to secure through contract) that emphasizes mental health to help shape its suicide prevention and management curriculum.

Response: For the past 10 years, OJJDP has been committed to addressing the mental health needs of youth involved with the juvenile justice system. The agency recognizes that at the State and local level, juvenile justice agencies, facilities, and professionals struggle to meet the needs of increasing numbers of mentally ill youth. As the writer points out, staff training is a critical part of the system's response to these youth, as is the development and implementation of appropriate assessment and treatment services.

Although this year's Program Plan contains no new funding in the area of mental health, the agency continues to sponsor a number of ongoing research projects in this area. Last year, OJJDP began funding a large, multifaceted research project related to mental health and juvenile justice. The ultimate goal of the project is to develop a model for meeting the mental health needs of youth at every point in the juvenile justice system, from arrest to aftercare. As part of this effort, researchers are collecting data on the prevalence of mental illness in different correctional settings and on the availability of appropriate services in those settings.

The first writer notes that there is an ongoing lack of program development dollars for diversion and treatment programs for mentally ill youth. Although OJJDP may not be dedicating discretionary dollars to mental health programming at this time, States may still use the funding they receive from OJJDP through Formula Grants and State Challenge Grants for this purpose. OJJDP encourages the writer to work with the appropriate State Advisory Group to ensure that a portion of these grant funds are used to meet the needs of mentally ill youth in the juvenile justice system or who are at risk of entering it.

In response to the second writer's recommendation that OJJDP focus on screening and assessing juveniles upon their first entry into the juvenile justice system (i.e., prior to confinement), OJJDP would like to point out two ongoing efforts that address this issue. OJJDP-funded Community Assessment Centers (CACs) provide a 24-hour centralized point of intake and assessment for juveniles entering the juvenile justice system. As the writer points out, early identification of mental health and substance abuse disorders can enhance placement and treatment decisions for youth at the “front end” of the juvenile justice system. In addition, the OJJDP project Screening and Assessment: Instruments and Models is designed to help juvenile justice professionals identify and understand the kinds of mental health screening and assessment tools and protocols available for use with youth in the juvenile justice system. The project, when completed, will provide recommendations regarding how these instruments and protocols can be used to better identify and respond to the treatment needs of youth in the juvenile justice system.

OJJDP appreciates the writers' suggestions and comments on the proposed program areas, the supplement to the Proposed Plan, and program modifications. OJJDP will consider these suggestions as it continues to develop and implement its FY 2002 activities.

Comment: Two writers, the president and the director of research of a company that produces educational and training products for at-risk youth, wrote to describe the unique opportunities that advances in Web-based technologies offer local juvenile justice and other youth service providers of youth training. They noted that such Web-based approaches to distance learning could be high quality, cost-effective, and easily customized. They also emphasized the benefits of the interactive nature of this medium.

Response: Although local providers are in the best position to determine the most cost-effective and efficient mix of media used to train youth in their communities, such decisions should be subject to ongoing review. As the information provided by the writers evidences, Web-based technologies should be included among the media explored in such analyses.

Comment: One writer, the director of a State Department of Juvenile Justice, wrote to support OJJDP's five broad program priorities for FY 2002. The writer stated that the proposed involvement of community- and faith-based organizations in the juvenile justice system will be well received and has great potential to tap resources that have been historically underutilized. Regarding reentry, the writer commented that virtually every practitioner agrees that reentry is a long-neglected area, with the result being that some of the most high-risk youth return to the community with inadequate planning, resources, and supervision for the transition. The writer also suggested that, should funding become available, the Proposed Plan or subsequent planning processes include two areas previously mentioned in the FY 2001 Proposed Plan: (1) Advocacy for families involved in the juvenile justice system and (2) increasing the capacity and effectiveness of juvenile probation.

Response: Although the juvenile justice system has traditionally provided services to juvenile offenders, it is clear that there are resources available in local communities that go unused. It is these unused resources, such as those in community- and faith-based organizations, that OJJDP desires to leverage for prevention, intervention, and reentry programs.

Comment: One writer, an official with the Council of Juvenile Correctional Administrators (CJCA), provided a series of comments and recommendations concerning OJJDP's Reentry Initiative. The comments and recommendations were the result of CJCA members' responses to 16 questions based on past OJJDP conferences and meetings. In crafting their responses, CJCA members addressed such topics as the overall purpose of the initiative, the principles that should be incorporated into the initiative, the ways in which OJJDP should define the target population of reentry programs, and the key components that should be included in such programs.

Response: In developing the core components of the Serious and Violent Juvenile Offender Reentry Initiative, OJJDP has made great efforts to elicit input from professionals across the juvenile justice field. In doing so, it is clear that the Reentry Initiative must be comprehensive to meet the needs of the returning offender, while maintaining public safety. The CJCA comments are consistent with the seven essential elements of OJJDP's comprehensive approach. This approach includes:

• Establishment of a clear and present authority from immediate return throughout the entire transition process.

• Implementation of a detailed assessment process (forensic, educational, vocational, mental health, and substance abuse).

• Development of a reintegration plan that clearly addresses all issues identified in the assessment phase and becomes the guide by which offenders must manage their reentry into the community.

• Use of existing community resources to implement the plan, which will afford continuity and availability of service delivery and ensure familiarity by the offender with the service system and will also increase the potential for sustaining the program and the offender in the community.

• Application of graduated levels of supervision and sanctions to offenders, including highly structured housing, electronic monitoring, team supervision, and consistent and equitable responses to a lack of compliance and reoffending.

• Involvement of local law enforcement, probation, parole, and the community in tracking the activities and behaviors of offenders.

• Use of faith- and community-based service systems to mentor and provide services to the offenders.

Comment: One writer, commenting on behalf of a nonprofit organization that promotes government accountability and citizen participation in public issues, supported the proposal to build the capacity of community- and faith-based organization to address the needs of at-risk youth. However, the writer stressed the importance of having adequate safeguards in place to protect against proselytizing directed at program participants and their families. As an example of this concern, the writer explains that if a grant program favors religious organizations over secular ones, or if some religions benefit more from the program than others, this bias may divide a community rather than unite it. The writer suggests several ways that OJJDP could involve faith-based organizations in its programs without subsidizing religious activity. In addition, the writer notes that OJJDP must do more than “discourage” proselytizing; it must prohibit it. Finally, the writer expresses hope that the Final Program Plan will provide more specific details about what grant programs can do to involve all organizations in a community without subsidizing religious activity of proselytizing participating youth. That way, the writer affirms, “the Centers will be a real asset for communities with high levels of juvenile crime.”

Response: OJJDP is committed to ensuring that any faith-based program will comply with constitutional and statutory protections. In designing and implementing the faith-based program, OJJDP will ensure that federal funds are not used for religious services, proselytization, or indoctrination.

Comment: One writer, an official with the Juvenile Justice Coalition of Ohio, wrote to support the general focus of the Proposed Plan but stated that “we believe the focus and the program priorities are too narrowly defined to have the positive impact all of us hope that [OJJDP's] activities will have on juvenile delinquency.” Based on this perception, the writer offered three modifications to the Proposed Plan: (1) Including the Comprehensive Strategy for Serious, Violent, and Chronic Juvenile Offenders as an OJJDP priority, (2) prioritizing efforts to reduce disproportionate confinement or overrepresentation of minorities in the juvenile justice system, and (3) broadening the scope of prevention priorities.

Response: OJJDP's State and Tribal Assistance Division (STAD), through its administration of formula and block grant programs, supported the Comprehensive Strategy for Serious, Violent, and Chronic Juvenile Offenders to help communities identify and prioritize their delinquency prevention and juvenile justice needs. Based on STAD's experiences and the information gathered during the national evaluation of the Comprehensive Strategy Training and Technical Assistance Initiative, STAD has streamlined the community planning process. This abbreviated, results-oriented approach (the Targeted Community Action Planning [TCAP] program) will allow OJJDP to support more local communities interested in developing targeted responses to their most pressing juvenile justice needs.

In response to the writer's comment that “efforts to reduce disproportionate confinement or overrepresentation of minorities in the juvenile justice system should be a priority,” OJJDP recognizes that addressing disproportionate minority confinement (DMC) requires long-term coordinated efforts at the Federal, State, and local levels. OJJDP plans to continue Federal research and targeted training and technical assistance to States and local communities to help them meet these challenges. OJJDP is committed to assisting States in their adoption of a comprehensive approach to reduce DMC and ensuring fair and equal treatment for every youth involved in the juvenile justice system.

In response to the writer's comment that “the scope of prevention priorities should be broadened,” OJJDP agrees that prevention models, such as the one prescribed by OJJDP's Title V Community Prevention Grants Program, provide guidance for communities' risk- and protective-focused prevention efforts. OJJDP strives to improve and broaden the delinquency prevention efforts of both States and communities, particularly those efforts that (1) emphasize promising or effective programs and (2) provide proactive assistance to help communities access additional funding sources to implement their comprehensive community delinquency plans.

Comment: One writer, the director of corrections for a faith-based organization, wrote in support of the FY 2002 Proposed Plan and offered to assist with future implementation efforts regarding the Proposed Plan.

Response: OJJDP is pleased to know that the Faith- and Community-based and Reentry Initiatives have generated so much support. We welcome and will encourage participation in the implementation of these initiatives as we continue to develop them.

Comment: One writer, the family services director for a nonprofit community action agency, asserted that OJJDP should “prioritize earlier intervention for effective prevention.” The writer emphasized that prevention should play a larger part in the Proposed Plan and stated that “holding youth accountable and preparing offenders to return home after leaving institutions is not delinquency prevention.”

Response: OJJDP agrees that early intervention and prevention efforts are critical to addressing potential risk factors that may lead to juvenile delinquency. Over the years, OJJDP has supported many intervention and prevention programs, such as the Drug-Free Communities Support Program and the Juvenile Mentoring Program. OJJDP's commitment to developing and sustaining such programs remains strong. Nonetheless, the success of intervention and prevention programs should not forestall the development of new approaches to curtailing delinquency. By focusing on programs that hold youth accountable for their delinquent actions and on initiatives that prepare serious and violent juvenile offenders to successfully return home to their communities after they leave correctional institutions and training schools, OJJDP is building its capacity to meet the needs of both our Nation's youth and the communities in which they live.

Comment: One writer, a member of the Gender Specific Services Work Group for Ohio, commented that the Proposed Plan should prioritize and fund (1) the mandate to reduce disproportionate minority confinement of juveniles; (2) the Comprehensive Strategy for Serious, Violent, and Chronic Juvenile Offenders; and (3) gender-specific services. In addition, the writer stated disappointment that OJJDP “has dropped the National Girls Institute from program funding.”

Response: OJJDP is committed to preventing and reducing juvenile delinquency. In addition, OJJDP's commitment to addressing the mandate to reduce disproportionate minority confinement of juveniles and gender-specific programs for girls remains strong. We are currently reviewing our efforts in these areas and evaluating the effectiveness of the Comprehensive Strategy program. As we move forward, we will do so in a manner that focuses on outcome measures and builds on lessons we have already learned in all of these areas.

Comment: Two writers, an official with the National Sheriff's Association (NSA) and an official with the American Correctional Association (ACA), commended OJJDP's efforts in helping to improve the future of America's youth. Commenting on behalf of NSA, one writer suggested promoting a program that would assist “rural law enforcement in dealing with and assisting juveniles in trouble.” Commenting on behalf of ACA, the second writer expressed an interest in “ensuring that when and if juveniles are placed in incarceration situations, proper training, resources, and assistance is afforded to the facilities and their officers.” Both writers stated an interest in promoting proper reentry strategies and partnerships to ensure that all youth receive the assistance they need.

Response: It is often difficult to address issues regarding the lack of resources and services in remote, very rural areas. However, OJJDP is aware of these difficulties and has taken steps to assist sparsely populated jurisdictions that do not have some essential services. OJJDP has directed the National Juvenile Detention Association (NJDA) to address the issue of detention services in rural areas. NJDA, along with the Annie E. Casey Foundation, is looking at what can be done to provide alternatives to incarceration that still provide a degree of security and protection to both the delinquent youth and the community.

In addition, OJJDP is sponsoring a Juvenile Sanctions Project, through the National Council of Juvenile and Family Court Judges, to assist jurisdictions that want to develop new, or enhance existing, accountability-based juvenile sanctions programs. Such a system of graduated sanctions would help communities develop alternatives to secure detention, identify needed services for juveniles, and help implement services in rural communities.

Comment: One writer, a juvenile justice specialist from a State Division of Criminal Justice, offered three comments. First, OJJDP should solicit input from juvenile justice specialists and State Advisory Groups who oversee and administer the funds available through the State and Tribal Assistance Division of OJJDP. Soliciting this input prior to and during the implementation process of the proposed programs will, according to the writer, broaden the working knowledge of the needs and existing State programs and initiatives. OJJDP should also solicit input from other Federal agencies and foundations that share a similar focus. Second, the current grantee of the Juvenile Justice Telecommunications Assistance Project should continue to develop ways to include more participants in the Internet videoconferences. Third, the Building Blocks initiative and the Disproportionate Minority Confinement initiative should be “supported at a level to provide assistance to States in their efforts to address minority overrepresentation through the Formula Grant Program.”

Response: The Juvenile Justice Telecommunications Assistance Project (JJTAP) continues to recognize the importance of using the Internet to disseminate information to the field. Since 1999, JJTAP has used the evolving technology of streaming video and has seen it become more watchable and viewer-friendly with each passing year. In FY 2002, JJTAP committed to cybercast all OJJDP videoconferences and has proposed to do the same in FY 2003. All past videoconferences are available for viewing online at www.juvenilenet.org/jjtap/archives. As for the writer's comment about providing assistance to states to address disproportionate minority confinement issues, training and technical assistance are available through OJJDP to all states to help them address this issue.

Comment: One writer, an official of Americans United for Separation of Church and State, wrote to express concern that OJJDP's plan for implementing community- and faith-based initiatives “may have the deleterious effect of eroding the civil rights of the beneficiaries and others.” The writer advised that the Final Plan explicitly mention a commitment to the Constitutional protections regarding the separation of church and State. In addition, the writer urged that OJJDP “ensure the availability of secular alternatives for the beneficiary youth in each location [where] funds are used to assist faith-based organizations.”

Response: OJJDP is committed to ensuring that any faith-based initiative will comply with constitutional and statutory protections. In designing and implementing the faith-based program, OJJDP will seek to ensure that federal funds are not used for worship services, proselytization, or indoctrination.

Comment: One writer, the executive director of an educational technology network that serves juvenile and youthful offenders, wrote to recommend that the guidelines for all OJJDP grants include the use of technology, as appropriate. The writer asked that OJJDP consider designating some portion of reentry program funds for the development of multimedia products that can be used nationwide to help youthful offenders establish a plan for success. The writer also suggested that OJJDP use something like the following language in its guidelines for reentry program applications:

“Funding will be made available, on a competitive basis, for the development of multimedia products that prepare juveniles and youthful offenders for reentry into the community, prior to their release date.”

Response: The ability to share information across agencies in an efficient and effective manner is a critical component to many justice programs. OJJDP encourages juvenile justice agencies to develop and implement management information systems that can collect data and analyze and disseminate information. Sites participating in OJJDP's Serious and Violent Offender Reentry Initiative may choose to enhance their programs through the use of technology, both with multimedia products and the above-mentioned information systems.

Comment: One writer, commenting on behalf of the Research Triangle Institute, recommended that OJJDP implement a new area of investigation for developing effective interventions for at-risk juveniles. The writer suggested that a new approach should advance a more comprehensive understanding of the many factors that influence behavioral outcomes. To this end, the writer asserted that interventions should target the precursors that affect behavioral outcomes (e.g., drug abuse or violence) rather than the behavioral outcomes alone.

Response: Over the past several years, OJJDP has become aware of research that indicates a link between learning disabilities and higher risk for delinquency. This research indicates that neurological conditions can impact a child's cognitive and emotional regulatory functions. Children with these functional impairments may be more likely to engage in behavior that can have negative outcomes. For example, they may be more vulnerable to the influences of negative peers or may be less likely to achieve academically and therefore start to skip classes. Without appropriate intervention, these children may engage in delinquent behavior, such as drug use and violence, and end up in juvenile court or incarcerated.

As the writer indicates, very few prevention studies take into account precursors, such as functional impairments, when studying the effectiveness of any given program or curriculum. Yet, since children with these functional impairments are less likely to benefit from traditional prevention program delivery methods (i.e., a classroom setting), research needs to consider these factors if we are to develop programs that truly respond to the needs of at-risk youth.

In recent years, OJJDP has worked to increase collaboration with other federal agencies that support research in this field. The purpose of these collaborations has been two-fold: first, to learn more about the precursors that may make youth more vulnerable to delinquent behavior, and second, to encourage researchers to measure predelinquent and delinquent behavior as part of the outcomes they use in measuring the impact of different interventions. The Multisite, Multimodal Treatment Study of Children With Attention Deficit/Hyperactivity Disorder is one current collaborative effort. This study, funded primarily by the National Institute of Mental Health (NIMH), is examining the long-term efficacy of stimulant medication and intensive behavioral and educational treatment for children with attention deficit/hyperactivity disorder (ADHD).

Another project for which OJJDP has provided support (through an Interagency Agreement with NIMH) is Risk Reduction Via Promotion of Youth Development. This project (also known as Early Alliance) is a large-scale prevention study involving hundreds of children in several elementary schools in lower socioeconomic neighborhoods of Columbia, SC. The project is designed to promote coping competence and reduce risk for conduct problems, aggression, substance use, delinquency and violence, and school failure beginning in early elementary school.

In addition to these studies, OJJDP participates in the Interagency Coordinating Committee on Fetal Alcohol Syndrome (ICCFAS) group. Fetal Alcohol Syndrome and Fetal Alcohol Effects (FAS/FAE) are associated with a specific set of neurobehavioral deficits that predispose affected individuals to delinquent and other high-risk behaviors. A primary objective of the ICCFAS is to promote and facilitate the development of collaborative projects and cooperative programs among member agencies. This includes improving communication among basic research, clinical research, education, and service-provider communities, and facilitating evaluation of FAS intervention programs. The ICCFAS group is coordinated by the National Institute on Alcohol Abuse and Alcoholism and includes members from several federal agencies and national organizations. OJJDP has served on the group since 1999.

Although these efforts are an important step, they are just the beginning. OJJDP will continue to seek opportunities to collaborate with other agencies in supporting research in this field and to share the results with juvenile justice practitioners nationwide.

Fiscal Year 2002 Program Listing

Overarching

American Statistical Association Crime and Justice Committee

Coalition for Juvenile Justice

Insular Area Support

Juvenile Justice Clearinghouse

Juvenile Justice Telecommunications Assistance Project

National Reporting System for Formula Grants Program

National Resource Center for Safe Schools

National Training and Technical Assistance Center

OJJDP Management Evaluation Contract

OJJDP Technical Assistance Support Contract—Juvenile Justice Resource Center

Program of Research on the Causes and Correlates of Delinquency

Technical Assistance for State Legislatures

Understanding and Monitoring the “Whys” Behind Juvenile Crime Trends

Public Safety and Law Enforcement

Evaluation of the Comprehensive Community-Wide Approach to Gang Prevention, Intervention, and Suppression Program

Evaluation of the Comprehensive Gang Model: An Enhanced School Approach

Gang-Free Schools and Communities Initiative

Gang Prevention Through Targeted Outreach (Boys & Girls Clubs)

Law Enforcement Training and Technical Assistance Program

National Youth Gang Center

Technical Assistance to the Gang-Free Schools and Communities Initiative

Delinquency Prevention and Intervention

Assessing Alcohol, Drug, and Mental Disorders Among Juvenile Detainees

Comprehensive Children and Families Mental Health Training and Technical Assistance

Evaluation of the Truancy Reduction Demonstration Program

Integrated Information Sharing To Prevent Juvenile Delinquency: A Training and Technical Assistance Approach

Intergenerational Transmission of Antisocial Behavior

Juvenile Defender Training, Technical Assistance, and Resource Center

Multisite, Multimodal Treatment Study of Children With Attention Deficit/Hyperactivity Disorder

National Youth Court Center

Pathways to Desistance: A Prospective Study of Serious Adolescent Offenders

Technical Assistance for the Title V Community Prevention Programs

Truancy Reduction Demonstration Program

Strengthening the Juvenile Justice System

Accountability-Based Training for Staff in Juvenile Confinement Facilities

Balanced and Restorative Justice

Census of Juveniles in Residential Placement

Center for Students With Disabilities in the Juvenile Justice System

Improving Juvenile Sanctioning: An Intensive Training and Technical Assistance Delivery Program

Intensive Community-Based Juvenile Aftercare Dissemination and Technical Assistance Program

James E. Gould Memorial Program for Training and Technical Assistance for Juvenile Corrections and Detention

Juvenile Justice Prosecution Unit

Juvenile Residential Facility Census

Longitudinal Study To Examine the Development of Conduct Disorder in Girls

Meta-Analysis Project

National Census and Survey of Juvenile Probation

National Evaluation of the Performance-based Standards Project

National Juvenile Justice Data Analysis Project

National Juvenile Justice Program Directory

National Juvenile Sex Offenders Training Project

National Longitudinal Survey of Youth

National Training and Technical Assistance for Effective Juvenile Detention and Corrections Practices

Performance-based Standards Project

Survey of Youth in Residential Placement

Systems Improvement Training and Technical Assistance

Training Programs for Juvenile Justice Professionals in Corrections and Detention

Training and Technical Assistance for National Innovations To Reduce Disproportionate Minority Confinement

Tribal Youth Training and Technical Assistance Program

Child Abuse and Neglect and Dependency Courts

Evaluation of the Parents Anonymous' Program

National Evaluation of the Safe Kids/Safe Streets Program

Research on Child Neglect

Safe Kids/Safe Streets: Community Approaches to Reducing Abuse and Neglect and Preventing Delinquency

Overarching

American Statistical Association Crime and Justice Committee

In 2001, OJJDP, through an intra-agency agreement with the Bureau of Justice Statistics (BJS), began funding the American Statistical Association (ASA) Committee on Crime and Justice Statistics to support the committee's work and to sponsor a methodology and statistics grant program. ASA-sponsored grants and activities seek to improve the quality and utility of juvenile-related Federal Bureau of Investigation (FBI) data, in particular county-level arrest and homicide data. A specific research agenda for these funds will be developed jointly by OJJDP, BJS, the FBI, and the ASA Law and Justice Statistics Committee. This joint OJJDP and BJS activity should improve the processing of these files and make the two offices' public presentation of the final data more consistent. Funds in FY 2002 will support the further development of the research agenda and the continued improvement of the juvenile justice data.

This project will be implemented by the current grantee, the American Statistical Association. No additional applications will be solicited in FY 2002.

Coalition for Juvenile Justice

This project supports the Coalition for Juvenile Justice, an organization composed of member representatives of State Advisory Groups appointed by State Governors under section 223(a)(3) of the JJDP Act. Pursuant to statutory requirements, the Coalition will conduct an annual conference of member representatives; disseminate information on data, standards, advanced techniques, and program models developed and funded by OJJDP; and review Federal policies regarding juvenile justice and delinquency prevention. The Coalition also advises the OJJDP Administrator with respect to the work of OJJDP and advises the President and Congress with regard to State perspectives on the operation of OJJDP and on Federal legislation pertaining to juvenile justice and delinquency prevention.

This project will be implemented by the current grantee, the Coalition for Juvenile Justice. No additional applications will be solicited in FY 2002.

Insular Area Support

The purpose of this statutorily required program is to provide support to the U.S. Virgin Islands, Guam, American Samoa, and the Commonwealth of the Northern Mariana Islands. Funds are available to address the special needs and problems of juvenile delinquency in these insular areas, as specified by section 261(e) of the JJDP Act of 1974, as amended, 42 U.S.C. 5665(e).

Juvenile Justice Clearinghouse

A component of the National Criminal Justice Reference Service (NCJRS), the Juvenile Justice Clearinghouse (JJC) collects, synthesizes, and disseminates information on all aspects of juvenile justice. OJJDP established the Clearinghouse in 1979 to serve the information needs of the juvenile justice community, policymakers, the media, and the public. JJC offers toll-free telephone access to information; prepares specialized responses to information requests; produces, warehouses, and distributes OJJDP publications; exhibits at national conferences; maintains a comprehensive juvenile justice library and database; and operates several electronic information resources, including OJJDP's Web site. NCJRS is administered by the National Institute of Justice (NIJ) under a competitively awarded contract to Aspen Systems Corporation. FY 2002 is the fourth year of a 4-year project period.

This project will be implemented by the current contractor, Aspen Systems Corporation. No additional applications will be solicited in FY 2002.

Juvenile Justice Telecommunications Assistance Project

The Juvenile Justice Telecommunications Assistance Project (JJTAP) has been funded by OJJDP since 1995. The grantee, Eastern Kentucky University (EKU), provides OJJDP with the technical expertise and necessary equipment to conduct national satellite videoconferences and technical assistance for training and information dissemination purposes. Through the use of live videoconferences and Internet technology, OJJDP has reached thousands of juvenile justice professionals simultaneously to inform the field of the latest developments in research, best practices, and promising programs in an expeditious and relatively inexpensive manner. These videoconferences are designed to address specific issues and allow interaction between experts and the viewing audience during call-in segments.

In addition to satellite technology, this project has used the Internet since 1999 to reach an even greater audience. Five of the videoconferences have been Webcast live on the Internet, and all past videoconferences are available for viewing, in their entirety, on the project's Web site archive. Written materials accompanying each broadcast are sent to each downlink site and are available to anyone to download from the Internet. Videotapes and associated written materials for all past videoconferences are available for purchase through the Juvenile Justice Clearinghouse. JJTAP has provided technical assistance on satellite videoconferencing to a large number of organizations and has published the Satellite Teleconferencing Resource Manual, a resource document for agencies interested in delivering training via satellite.

In FY 2002, all videoconferences will be available via satellite and the Internet. Four new videoconferences will be developed and marketed through the National Criminal Justice Reference Service. EKU also will continue providing limited technical assistance in the use of telecommunications technology to other juvenile justice agencies.

This project will be implemented by the current grantee, Eastern Kentucky University. No additional applications will be solicited in FY 2002.

National Performance Reporting System for Formula Grants Program

The National Performance Reporting System will allow OJJDP to continue assisting States in reporting program information as required for participation in the Title II, Part B State Formula Grants Program. Under this project, States gain the capacity to efficiently submit program information to OJJDP. In this second year of the cooperative agreement, a new data collection tool will be piloted and subsequently refined. The data obtained using this new collection tool will provide a comprehensive picture of the implementation of the Formula Grants Program in the States.

This project will be implemented by the current grantee, the Justice Research and Statistics Association. No additional applications will be solicited in FY 2002.

National Resource Center for Safe Schools

OJJDP established the National Resource Center for Safe Schools (NRCSS) in 1998 by funding, along with the U.S. Department of Education's Safe and Drug-Free Schools Program, the Northwest Regional Educational Laboratory (NWREL) to provide intensive training, technical assistance, and data collection to strengthen statewide and local safe school initiatives. The mission of NRCSS is to implement a training and technical assistance program that helps schools and communities create and maintain safe learning environments that are free of crime and violence. NRCSS's approach assumes that the development of a safe school environment cannot be isolated from an overall school improvement plan that includes community services agencies. This approach provides safe schools programs with a solid foundation that embraces diversity, builds resiliency, and provides educational programming such as anger management, peer mediation, and conflict resolution. (However, such programming is not appropriate in cases involving dating violence or sexual harassment.)

NRCSS's accomplishments to date include developing a database and services to support crisis response referrals; holding 3 advisory committee meetings; publishing 8 newsletters, 12 fact sheets, and 1 case study; establishing a training and technical assistance calendar, a pool of providers, and a toll-free phone number; and developing a training curriculum protocol and a curriculum manual for the project.

In FY 2002, NRCSS will identify and focus on the 10 areas of concern that are most important to creating safer schools. NRCSS will take a consolidated approach to these 10 areas of concern and will support schools in their efforts to implement other effective OJJDP initiatives such as mentoring, youth courts, bullying, and conflict resolution.

This project will be implemented by the current grantee, the Northwest Regional Educational Laboratory. No additional applications will be solicited in FY 2002.

National Training and Technical Assistance Center

The National Juvenile Justice and Delinquency Prevention Training and Technical Assistance Center (NTTAC) was established in FY 1995 under a competitive 3-year project period award. In FY 2000, a competitive 1-year contract was awarded to Caliber Associates to continue implementation of the Center; a second contract was awarded to Caliber through a competitive process in FY 2001. Renewal of this contract for project implementation is anticipated annually over a 3-year period, based on availability of funds and satisfactory performance.

NTTAC serves as a national training and technical assistance repository, inventorying and coordinating the integrated delivery of juvenile justice training and technical assistance resources and establishing a database of these resources. Past NTTAC activities included convening the first in a series of annual OJJDP training and technical assistance grantee-contractor meetings, finalizing the jurisdictional team training and technical assistance packages on critical needs in the juvenile justice system, developing a bimonthly newsletter (NTTAC News), and responding to training and technical assistance requests from the field.

NTTAC also brokered more than 500 training and technical assistance requests in FY 2001 and revamped its marketing and outreach strategy to include a redesign of its marketing materials, indicating “a family-of-products” look. NTTAC expanded and enhanced its Web site, increasing its usership by approximately 40 percent. In addition, NTTAC developed the OJJDP Core Performance Standards, which serve as minimum expectations for training and technical assistance providers in the planning, delivery, and evaluation of their services.

During FY 2002, NTTAC will disseminate the Core Performance Standards and a toolkit series of fact sheets and bulletins to facilitate the implementation of the Standards. NTTAC will continue to develop an Information Resource Management System (IRMS). NTTAC will complete development of its training and technical assistance product and curriculum review process and will endeavor to complete the Office of Management and Budget clearance process for its User Feedback Form. The Center will also provide assistance to State juvenile corrections training academies in facilitating the reoccurring revisions and updates of basic job descriptions and will serve as a repository of training materials developed by juvenile corrections training academies.

This project will be implemented by the current grantee, Caliber Associates. No additional applications will be solicited in FY 2002.

OJJDP Management Evaluation Contract

This contract was competitively awarded in FY 1999 to Caliber Associates for a period of 4 years to provide OJJDP with an expert resource to perform independent program evaluations and assist in implementing evaluation activities. The contractor provides assistance to OJJDP staff in determining the evaluation needs of programs and develops evaluation designs that OJJDP can use in defining the requirements for a grant or contract to implement the evaluation. Caliber is currently conducting two full-scale program evaluations for OJJDP. One is a national evaluation to examine the viability and effectiveness of Title V Community Prevention Grants for Local Delinquency Prevention Programs. The contractor also is completing a process evaluation of the implementation of OJJDP's Comprehensive Strategy for Serious, Violent, and Chronic Juvenile Offenders. The contractor also may provide training to OJJDP program managers and other staff on evaluation-related topics.

This contract will be implemented by the current contractor, Caliber Associates. No additional applications will be solicited in FY 2002.

OJJDP Technical Assistance Support Contract—Juvenile Justice Resource Center

The Juvenile Justice Resource Center (JJRC) provides technical assistance and support to OJJDP, its grantees, and the Coordinating Council on Juvenile Justice and Delinquency Prevention in the areas of program development, evaluation, training, and research. With assistance from expert consultants, JJRC coordinates product reviews, conducts research and prepares reports on current juvenile justice issues, plans meetings and conferences, and provides administrative support to various Federal councils and boards. FY 2002 is the fourth year of a 4-year project period.

This project will be implemented by the current contractor, Aspen Systems Corporation. No additional applications will be solicited in FY 2002. Since this is the final year of funding, a new solicitation will be issued and a contract awarded through a competitive contract action so there will not be a break in services.

Program of Research on the Causes and Correlates of Delinquency

Since 1986, this longitudinal study has addressed a variety of issues related to juvenile violence and delinquency and has produced a massive amount of information on the causes and correlates of delinquent behavior. Three project sites participate: The Institute of Behavioral Science, University of Colorado at Boulder; the Western Psychiatric Institute and Clinic, University of Pittsburgh; and Hindelang Criminal Justice Research Center, University at Albany, State University of New York. These projects are designed to improve the understanding of serious juvenile delinquency, violence, and drug use by examining how youth develop within the context of family, school, peers, and community. The three sites engage in both collaborative and site-specific research. The three research teams worked together to ensure that certain core measures were identical across the sites. This approach strengthens the findings from these projects by allowing for replications of findings in individual sites and enabling cross-site analyses.

In the upcoming year, the Causes and Correlates projects will continue collaborative and site-specific analyses of the data. Future reports will address such topics as mental health problems and interventions, gangs, and the transition from school to work. In addition, researchers at the three sites will provide greater access to the study data. Confidentiality concerns prohibit the release of the data sets to the general public. However, OJJDP and the researchers have been exploring alternative methods of making the data more accessible to other researchers, the most promising being a remote access system. Plans for the next year include developing and testing a remote access system at one of the sites.

This program will be implemented by the current grantees, The Institute of Behavioral Science, University of Colorado at Boulder; The Western Psychiatric Institute and Clinic, University of Pittsburgh; and Hindelang Criminal Justice Research Center, University at Albany, State University of New York. No additional applications will be solicited in FY 2002.

Technical Assistance for State Legislatures

The Technical Assistance for State Legislatures project was established in FY 1995, when OJJDP awarded funds to the National Conference of State Legislators (NCSL) to provide juvenile justice information on recent research, legislation, reform options, and innovative program models and to provide customized technical assistance for State legislatures. NCSL also aids State legislators in the improvement of State juvenile justice systems by exploring causes and crafting comprehensive responses to youth crime and violence. The NCSL project provides State legislatures with extensive consultation and technical assistance on key juvenile justice reform issues.

The project's accomplishments since FY 1995 include provision of onsite assistance by NCSL on 25 occasions to 14 State legislatures, with 4 occurring in FY 2001. Technical assistance is being planned in Louisiana and is ongoing in Vermont and Wyoming. The project has produced a 38-minute audiotape based on Comprehensive Juvenile Justice: A Legislator's Guide and distributed 600 copies of the tape to new lawmakers. Eleven lawmakers from five States (Hawaii, Kansas, Michigan, Mississippi, and Texas) participated in two juvenile justice study tours to learn how communities planned and implemented OJJDP's Comprehensive Strategy for Serious, Violent, and Chronic Juvenile Offenders.

During FY 2001, NCSL information services responded to 1,500 information requests. The grant has improved capacity for delivery of information services to State legislatures. The project also supports increased communication between State legislators and other State and local leaders who make decisions about juvenile justice issues.

In FY 2002, the Technical Assistance for State Legislatures project will continue to provide technical assistance to State legislatures; hold an invitational “Leadership Forum” on comprehensive juvenile justice in January 2002; and develop, prepare, and distribute publications to highlight current trends, juvenile justice approaches, and issues in the States. Two topics will be researched, prepared, and distributed as part of the NCSL LegisBriefs (fact sheets) series. Research/information clearinghouse activities will continue to inform State legislatures on juvenile justice issues, enactments, and research.

This project will be implemented by the current grantee, the National Conference of State Legislators. No additional applications will be solicited in FY 2002.

Understanding and Monitoring the “Whys” Behind Juvenile Crime Trends

The purpose of this research project is to identify and understand the principal reasons behind the trends in juvenile crime and violence. As national rates of youth violence have dropped substantially in recent years, a number of theories have been advanced to explain this trend. However, the lack of empirical evidence to fully support various theories enables proponents of vastly different policy orientations to claim victory for the recent declines and continue to assert their policy objectives. Not all localities experienced the same trends in juvenile violent crime during either the increases in the late 1980s or the subsequent declines that began in the early 1990s, and there is considerable variation in local juvenile crime rates across the country. In FY 2001, under a competitive award, the University of Pennsylvania's Jerry Lee Center on Criminology began a 5-year study to address these issues. The Center recruited six “developmental sites” and produced a report addressing the trends, theories discarded and remaining, feasibility of testing these theories, and limitations of various designs. In FY 2002, the University of Pennsylvania will begin testing these theories and will issue additional reports on the onsite testing process, experience, and feasibility.

This program will be implemented by the current grantee, the University of Pennsylvania. No additional applications will be solicited in FY 2002.

Public Safety and Law Enforcement

Evaluation of the Comprehensive Community-Wide Approach to Gang Prevention, Intervention, and Suppression Program

OJJDP will continue funding this evaluation in FY 2002. Under a competitive cooperative agreement awarded in FY 1995, the evaluation grantee helped the five program sites (Bloomington, IL; Mesa, AZ; Riverside, CA; San Antonio, TX; and Tucson, AZ) establish realistic and measurable objectives, document program implementation, and measure the impact of this comprehensive approach. The grantee has trained the local site interviewers and also provided interim feedback to the program implementors. The grantee will continue to analyze data required to evaluate the program, monitor and oversee the quality control of data, and prepare final reports for the full evaluation.

This project will be implemented by the current grantee, the University of Chicago, School of Social Service Administration. No additional applications will be solicited in FY 2002.

Evaluation of the Comprehensive Gang Model: An Enhanced School Approach

This initiative is a continuation of ongoing efforts to test OJJDP's Comprehensive Gang Model. In FY 2000, four sites were competitively selected to conduct comprehensive assessments of their local gang problem and develop programs to implement the Comprehensive Gang Model. Program designs will be communitywide but will emphasize school-based responses. The four sites are Dade County, FL; East Cleveland, OH; Houston, TX; and Pittsburgh, PA. The evaluation grantee, COSMOS Corporation, is conducting case studies to document and analyze the four sites' 1-year community assessment and program planning efforts. COSMOS is also developing an outcome evaluation design for the sites that will be funded to implement the model.

This program will be implemented by the current grantee, COSMOS Corporation. No additional applications will be solicited in FY 2002.

Gang-Free Schools and Communities Initiative

In FY 2000, OJJDP launched a multisite effort to continue to demonstrate, test, and replicate the implementation of the OJJDP Comprehensive Gang Model in as many as 16 sites around the country. In response to a competitive solicitation, 10 new sites were selected to participate in this initiative, which consists of the 2 separate programs described below.

The Comprehensive Gang Model: An Enhanced School/Community Approach to Reducing Youth Gang Crime is a program designed to demonstrate and test the Model's ability to assist communities in addressing youth gang problems in both the school setting and in the community, through a tightly coordinated approach, including antiviolence efforts. The four participating communities are East Cleveland, OH; Houston, TX; Pittsburgh, PA; and Miami-Dade, FL. In FY 2001, these sites received initial training in conducting an assessment of the youth gang problem and began collecting data. In FY 2002, these sites will be eligible for funding to begin implementing the OJJDP Comprehensive Gang Model to address the problems identified. The COSMOS Corporation is conducting an independent evaluation of this effort.

The Gang-Free Communities program is designed to offer “seed” support to communities selected to replicate the OJJDP Comprehensive Gang Model. The communities selected to participate are Broward County, FL; East Los Angeles, CA; Jefferson County, KY; Lakewood, WA; San Francisco, CA; and Washington, DC. The goal of this program is to reduce youth gang violence in the community. In FY 2001, these sites also received initial training in conducting an assessment of the youth gang problem and began collecting the necessary data. In FY 2002, these sites will be eligible for funding to begin implementing the OJJDP Comprehensive Gang Model to address the problems identified.

The National Youth Gang Center is providing training and technical assistance for communities participating in both programs.

These two programs will be implemented by the current grantees: East Cleveland, Houston, Miami-Dade, and Pittsburgh for the comprehensive Gang Model: An Enhanced School/Community Approach to Reducing Youth Gang Crime and Broward County, FL; East Los Angeles, CA; Jefferson County, KY; the City of Lakewood, WA; San Francisco, CA; and Washington, DC, for the Gang-Free Communities program. No new applications will be solicited in FY 2002 for these programs.

Gang Prevention Through Targeted Outreach (Boys & Girls Clubs)

The purpose of this program is to enable local Boys & Girls Clubs to prevent youth from entering gangs, intervene with gang members in the early stages of gang involvement, and divert youth from gang activities into more constructive programs. The Boys & Girls Clubs of America provides training and technical assistance to local gang prevention and intervention sites, including some at OJJDP's gang program demonstration sites, and to other clubs and organizations through regional trainings and national conferences. In FY 2000, the Boys & Girls Clubs added new gang prevention sites, gang intervention sites, and “Targeted Reintegration” sites where clubs work to provide services to youth returning to the community from juvenile correctional facilities to prevent them from returning to gangs and violence. A national evaluation of the Gang Prevention Through Targeted Outreach Program was completed in FY 2001. The evaluation, conducted by Public/Private Ventures, Inc., concluded in part that “participants demonstrated positive change” and that “the clubs were successful in reaching an underserved, high-risk population through direct outreach and referral-network-building activities.” In FY 2002, the Boys & Girls Clubs of America will identify and support up to 30 new gang prevention sites. Evaluation of the Targeted Reintegration program component may also begin in FY 2002. In addition, the Boys & Girls Clubs will jointly sponsor OJJDP's National Youth Gang Symposium in June 2002, in partnership with the National Youth Gang Center.

This program will be implemented by the current grantee, the Boys & Girls Clubs of America. No additional applications will be solicited in FY 2002.

Law Enforcement Training and Technical Assistance Program

The Law Enforcement Training and Technical Assistance Program was initially funded through a competitive award in 1999 to the International Association of Chiefs of Police (IACP) for a 3-year project period. The purpose of the program is to increase the capacity of law enforcement and allied professions to address juvenile crime, delinquency, and victimization through multiagency system responses to school violence; juvenile gang, gun, and drug activity; and serious, violent, and chronic juvenile crime. Training workshops and technical assistance strengthen existing multiagency collaboration and facilitate creation of new partnerships.

In FY 2001, program activities included 19 workshops for more than 1,000 participants from 600 jurisdictions in 12 States. In addition, a marketing database was developed that allows the program to promote each individual product by State, via fax, directly to police, sheriffs, school administrators, school resource officers, juvenile probation and corrections agencies, juvenile mental health service officials, and other juvenile justice stakeholders. An OJJDP/IACP Training and Technical Assistance Web page was created for the IACP Web site. The page includes the training schedule and registration forms for specific training sessions and onsite technical assistance.

In FY 2002, the following deliverables will be provided under this program: 18 workshops, 12 onsite technical assistance projects, and 8 Chief Executive Officer Exchange Forums. Additionally, 1,500 CD-ROMs with relevant OJJDP literature and reference materials will be created and disseminated among training attendees; a Fact Sheet for OJJDP distribution and an article for a professional periodical will be written.

The program will be implemented by the current grantee, the International Association of Chiefs of Police. No additional applications will be solicited in FY 2002.

National Youth Gang Center

The proliferation of gang problems over the past two decades led OJJDP to develop a comprehensive, coordinated response that involved five program components, one of which was implementation and operation of the National Youth Gang Center (NYGC). Competitively funded in 1994 to expand and maintain the body of critical knowledge about youth gangs and effective responses to them, NYGC provides support services to the National Youth Gang Consortium, composed of Federal agencies with responsibilities in this area. NYGC also provides technical assistance for OJJDP's Gang-Free Communities Program, Gang-Free Schools Program, and Rural Gang Initiative. In FY 2001, NYGC (1) conducted indepth analyses of the National Youth Gang Survey results, which track changes in gang membership and activity; (2) developed and administered a survey of youth gangs in American Indian communities; (3) produced timely information on the nature and scope of the youth gang problem; (4) continued tracking gang-related legislation at both the State and Federal levels; and (5) continued to provide training and technical assistance for OJJDP's Gang-Free Communities Program, Gang-Free Schools Program, and Rural Gang Initiative.

With FY 2002 funds, the Center will continue to collect, analyze, and disseminate current and comprehensive national-level gang-related information. It will continue to assist State and local jurisdictions in the collection, analysis, and exchange of information on gang-related demographics, legislation, literature, research, and promising program strategies. The Center will also continue to provide indepth technical assistance to grantees of OJJDP gang programs.

This program will be implemented by the current grantee, the Institute for Intergovernmental Research. No additional applications will be solicited in FY 2002.

Technical Assistance to the Gang-Free Schools and Communities Initiative

In FY 2000, OJJDP launched a multisite replication of the OJJDP Comprehensive Gang Model and a four-site demonstration program to implement the Model and further enhance the Model's school component. In FY 2001, the National Youth Gang Center (NYGC) developed a manual to assist these communities in conducting the assessment, developed and provided these sites with tools and instruments for data collection, developed Web-based technical assistance resources for these communities, and provided initial gang problem assessment training to 10 participating sites and followup technical assistance and training to 5 of these sites. NYGC also developed a Web page to enable unsuccessful applicants to access technical assistance in conducting an assessment of the OJJDP Model. In FY 2002, OJJDP will fund NYGC to provide training and technical assistance during the implementation stages of this initiative in selected communities across the country. The National Youth Gang Center is currently providing technical assistance on OJJDP's Model to communities involved in OJJDP's Rural Gang Initiative and to other OJJDP grantees.

OJJDP will provide a supplemental award to the National Youth Gang Center to provide the technical assistance. No additional applications will be solicited in FY 2002.

Delinquency Prevention and Intervention

Assessing Alcohol, Drug, and Mental Disorders Among Juvenile Detainees

This project, which was funded competitively in 1999, is a major longitudinal study assessing alcohol, drug, and mental disorders among juveniles in the Cook County Detention Center in Chicago, IL. The project has three primary goals: (1) To determine how alcohol, drug, and mental disorders develop over time among juvenile detainees; (2) to investigate whether juvenile detainees receive needed psychiatric services after their cases reach disposition (whether they return to the community or are incarcerated); and (3) to study the development and interrelationship of dangerous and risky behaviors related to violence, substance use, and HIV/AIDS. This project is unique because the sample is so large: it includes 1,829 youth from Chicago who were arrested and originally interviewed between 1995 and 1998. The sample is stratified by gender, race (African American, Hispanic, non-Hispanic white), and age. Initial interviews have been completed, and extensive archival data (e.g., arrest and incarceration history, health and mental health treatment) have been collected on each subject. The investigators have been tracking the subjects, and they have completed several sets of followup interviews. A significant number of subject deaths, virtually all of them linked to violence (e.g., gunshot wounds), have already occurred. The large sample size has provided sufficient statistical power to study the prevalence of co-occurring disorders. Researchers are preparing an OJJDP Bulletin that compares subjects' self-reported substance use with the results of urine screens conducted shortly after arrest.

This project will be implemented by the current grantee, Northwestern University. No additional applications will be solicited in FY 2002.

Comprehensive Children and Families Mental Health Training and Technical Assistance

OJJDP has entered into an interagency agreement with the Center for Mental Health Services (CMHS) of the Substance Abuse and Mental Health Services Administration to support the CMHS-funded Comprehensive Mental Health sites. CMHS currently funds 45 sites, a technical assistance provider, and an evaluation. OJJDP funds are used to support the juvenile justice specialist member of the technical assistance team, which also includes child welfare, mental health, education, and parent specialists. This team oversees technical assistance to the sites and coordinates technical assistance to meet their needs. The juvenile justice specialist responsibilities include efforts to assist with the development of increased coordination between the juvenile justice and mental health systems in the 45 sites.

This initiative will be implemented through an interagency agreement with CMHS. No additional applications will be solicited in FY 2002.

Evaluation of the Truancy Reduction Demonstration Program

OJJDP currently funds seven sites that are implementing truancy reduction programs. Grantees include Contra Costa, CA; Honolulu, HI; Houston, TX; Jacksonville, FL; King County, WA; Suffolk County, NY; and Tacoma, WA. OJJDP also funds the Colorado Foundation for Families and Children (CFFC) to conduct the national evaluation of the Truancy Reduction Demonstration Program. As part of the evaluation, CFFC is working with the sites to (1) determine how community collaboration can reduce truancy and lead to systemic reform and (2) assist OJJDP in developing a community collaborative truancy reduction program model and identifying the essential elements of that model. To that end, CFFC continues to assist project sites to identify and document the nature of the truancy problem in their communities, enhance effective truancy reduction planning and collaboration, and incorporate that process into the implementation of the Truancy Reduction Demonstration Program at each site. In addition, CFFC is assisting sites in collecting information on truant youth and documenting services.

This project will be implemented by the current grantee, the Colorado Foundation for Families and Children. No additional applications will be solicited in FY 2002.

Integrated Information Sharing To Prevent Juvenile Delinquency: A Training and Technical Assistance Approach

The Integrated Information Sharing To Prevent Juvenile Delinquency: A Training and Technical Assistance Approach project was established in FY 2001 under a competitive 2-year cooperative agreement between OJJDP and the Center for Non-Profit Development/Center for Network Development (CND). The project is designed to launch OJJDP's integrated information-sharing (IIS) effort. CND works to increase the capacity of State and local collaboratives to establish and manage effective multidisciplinary, multiagency information-sharing systems; support proactive solutions to juvenile delinquency; and improve coordination, decisionmaking, and services to at-risk youth and their families.

Under this cooperative agreement, CND has completed several key tasks to accomplish the project's goals. The results of a national training needs assessment survey and focus group meeting influenced the content of instructional materials for regional training workshops scheduled for FY 2001 and FY 2002. Similarly, a curriculum design team has outlined particular training modules and engaged practitioners at various levels of experience with IIS systems to critique the designs and discuss the challenges, barriers, and solutions to building effective partnerships and planning and implementing IIS systems.

In FY 2001, CND collected lists of collaborative groups interested in enhancing IIS efforts from OJJDP program managers and added these lists to the IIS database. The national training needs assessment was developed and mailed to 953 youth-focused collaborative practitioners interested in developing and/or enhancing an IIS system.

In FY 2002, the final year of this 2-year project, CND will continue developing, marketing, and piloting level 1 and level 2 trainings, providing followup assistance, and evaluating the application of knowledge and skills gained in the trainings to improve IIS's collaborative performance.

This project will be implemented by the current grantee, the Center for Non-Profit Development/Center for Network Development. No additional applications will be solicited in FY 2002.

Intergenerational Transmission of Antisocial Behavior

The purpose of the Intergenerational Transmission of Antisocial Behavior study is to examine the development of childhood antisocial behavior in a three-generation prospective panel study by making the children of the current participants in the OJJDP-sponsored Rochester (NY) Youth Development Study the focal subjects of a new long-term study. Forty percent of the original Rochester participants were parents by age 21. The Youth Development Study began in 1986. The new study is being funded under an FY 1998 interagency agreement with the National Institute of Mental Health. The grantee will combine data on the original study's participants and their parents with new data on the children of the original participants. The combined data will enable researchers to examine and track the development of delinquent behavior across three generations in a particularly high-risk sample. The results of the study should provide useful findings that will have policy implications for prevention programs. In FY 2002, the program will continue data collection.

The project will be implemented by the current grantee, the University at Albany, State University of New York. No additional applications will be solicited in FY 2002.

Juvenile Defender Training, Technical Assistance, and Resource Center

The Juvenile Defender Training, Technical Assistance, and Resource Center (Juvenile Defender Center), now in its third year of funding under a 5-year project period grant, was competitively awarded to the American Bar Association (ABA) in FY 1999. The Juvenile Defender Center fills a major gap in resources and support for juvenile defenders in the United States by providing training and technical assistance services. Nationally focused training and technical assistance for juvenile defenders did not exist before OJJDP funded the original Due Process Advocacy project from 1993 to 1999. Building on that project, the Juvenile Defender Center project is designed to facilitate the development of a permanent training and technical assistance capability for juvenile defenders. Improving the capabilities and skills of juvenile defenders strengthens the juvenile justice system and provides greater assurance that juveniles charged with delinquency will receive the due process and adequate representation they are guaranteed under the U.S. Constitution.

The ABA has competitively selected eight regional centers to provide training and technical assistance in their regions. Each year, the ABA organizes and holds a National Juvenile Defender Summit that brings together juvenile defenders and related practitioners to address key issues in juvenile defense work. The ABA operates under a unique incentive funding scheme that enables it to receive additional funds over a base amount if it raises money in the private sector or obtains in-kind services. The ABA has been very successful in raising private funds and obtaining donated resources.

This project will be implemented by the current grantee, the American Bar Association. No additional applications will be solicited in FY 2002.

Multisite, Multimodal Treatment Study of Children With Attention Deficit/Hyperactivity Disorder

In 1992, the U.S. Department of Health and Human Services' National Institute of Mental Health (NIMH) began a study of the long-term efficacy of stimulant medication and intensive behavioral and educational treatment for children with attention deficit/hyperactivity disorder (ADHD). Although ADHD is classified as a childhood disorder, up to 70 percent of affected children continue to experience symptoms in adolescence and adulthood. Researchers at six primary study sites and three subcontractor sites are following children in the three treatment groups (medication management only, behavioral treatment, and a combination of medication and behavioral treatment) and a control group (community care).

OJJDP's participation in the study, which began in FY 1998, supports continued investigation into the subjects' aggressive and delinquent behavior and contact with the legal system, including arrest, detention, and incarceration. In FY 2002, OJJDP will transfer funds to NIMH through an interagency agreement that will support the collection of data related to subjects' delinquent and criminal behavior and contact with the juvenile justice system.

This program will be implemented through an interagency agreement with the National Institute of Mental Health. No additional applications will be solicited in FY 2002.

National Youth Court Center

OJJDP established the National Youth Court Center (NYCC) in 1999 to provide intensive training, technical assistance, data collection, and considerable programmatic resources to strengthen statewide and local youth court initiatives. NYCC supports the establishment of youth courts consistent with effective design elements for the purposes of preventing delinquency and holding young people accountable for their delinquent and criminal behavior within the context of constructive peer group community sanctions. Youth courts are programs where juvenile offenders are adjudicated and sentenced by their peers. These programs are rapidly becoming an integral component of the juvenile justice system in communities across America.

OJJDP is the lead Federal agency responsible for supporting the national youth court movement, with the U.S. Department of Transportation providing a small amount of support through an annual interagency agreement. With more than 800 programs currently operating and hundreds of jurisdictions planning to develop programs, youth courts have experienced tremendous growth in the past few years.

Accomplishments of the project to date include publication of National Youth Court Guidelines, which provides programmatic blueprints for operating effective youth court programs; National Youth Court Directory, which provides the largest and most accurate listing of youth court programs in the United States; and A Street Law Curriculum for Youth Courts. NYCC also has (1) developed a comprehensive youth court Web site and a national youth court center newsletter that offer the most comprehensive and up-to-date information on youth courts, (2) provided onsite technical assistance to jurisdictions in support of local or statewide youth court development efforts, (3) launched a national lawyer/law student recruitment campaign (a nationwide initiative linking lawyers and law students with local youth court programs), and (4) published Youth Court and Balanced and Restorative Justice.

In FY 2002, NYCC will produce three instructional videos about youth court benefits, responsibilities, and training for volunteer jurors. NYCC will also develop a training Web site to aid youth volunteers in preparing for their cases online. New documents will include a manual for a 10-week training program for youth volunteers; instructor's guides for adult volunteers who train volunteer youth; a daily operations handbook that will serve as a resource guide for coordinators of youth court programs; a “road map to youth court,” designed to teach those in the legal community about youth court; and a community service workbook that will teach program coordinators to set up task- and service-oriented community service projects for youthful offenders. Educational community service modules for youthful offenders will be designed around the most common victim issues and alcohol and marijuana offenses handled in youth court.

Training events for FY 2002 include a national youth court conference and a “train the trainers” session that will prepare one person from each State as the key State trainer for both the community service education and student membership training programs. Public education campaigns also will be developed and launched in FY 2002.

This project will be implemented by the current grantee, the American Probation and Parole Association with a subgrant to the American Bar Association. No additional applications will be solicited in FY 2002.

Pathways to Desistance: A Prospective Study of Serious Adolescent Offenders

In FY 2001, OJJDP, along with the Centers for Disease Control and Prevention and several private foundations, provided funding for the first year of data collection for the Pathways to Desistance study. This multisite, longitudinal, collaborative research project follows approximately 1,200 serious juvenile offenders from adolescence to young adulthood. Interviews are conducted regularly with these youth and their family members and friends for several years following their involvement with the court for felony-level offenses. The aims of the investigation are to (1) identify initial patterns of desistance from antisocial activity in serious adolescent offenders, (2) describe the role of social context and developmental changes in promoting positive behavioral change, and (3) compare the effects of sanctions and interventions in promoting positive change and desistance from criminal behavior. The larger goals of the study are to improve decisionmaking by court and social services personnel and to clarify policy debate about dispositional alternatives for serious adolescent offenders. The project is anticipated to last at least 3 years. In FY 2002, OJJDP, in conjunction with the U.S. Department of Justice's National Institute of Justice, the William T. Grant Foundation, the Robert Wood Johnson Foundation, and the John D. and Catherine T. MacArthur Foundation, will support the project's second year of data collection.

This project will be implemented by the current grantee, the University of Pittsburgh. No additional applications will be solicited in FY 2002.

Technical Assistance for the Title V Community Prevention Programs

The purpose of this project is to provide OJJDP with the capacity to provide communities with training and technical assistance support for implementation of the Title V Community Prevention Grants program. The contract was awarded in FY 2000 through a competitive process. The contractor will continue to provide nationwide training and technical assistance for State and local jurisdictions on developing and implementing comprehensive communitywide, data-based delinquency prevention strategies. Through training and technical assistance, community leaders develop the knowledge and skills necessary to assess local risk factors for and protective factors against delinquency and to address risk factors using community resources. To build training capacity within States and national regions, instruction on data-based, risk- and protection-focused prevention will be provided for trainers.

This project will be implemented by the current contractor, Development Services Group, Inc. No additional applications will be solicited in FY 2002.

Truancy Reduction Demonstration Program

In FY 1998, OJJDP, the Executive Office for Weed and Seed, and the U.S. Department of Education supported a grant program to reduce truancy. The Truancy Reduction Demonstration Program is a comprehensive program designed to combine education, justice and law enforcement, social services, and community resources to identify and track truant youth and cooperatively design and implement comprehensive systemwide programs to meet the needs of these youth. The four components of the Truancy Reduction Program are (1) system reform and accountability, (2) a service continuum to address the needs of truant children and adolescents, (3) data collection and evaluation, and (4) a community prevention education and awareness program for kindergarten through grade 12. OJJDP has awarded grants to seven sites to implement the comprehensive truancy program. Three were non-Weed and Seed (Honolulu, HI; Jacksonville, FL; and King County, WA), and four were Weed and Seed sites (Houston, TX; Martinez, CA; Tacoma, WA; and Yaphank, NY). Operation Weed and Seed is a two-pronged strategy within the Office of Justice Programs (OJP) that seeks to prevent, control, and reduce violent crime, drug abuse, and gang activity in targeted high-crime neighborhoods.

All the truancy reduction sites are in the implementation phase of the program. Examples of the program strategies include the following: case managers conducting home visits, attendance monitoring, tutoring, and case management referral of youth and families to community agencies for needed services. In FY 2001, the Truancy Reduction Program served approximately 2,085 students and 1,180 families. The Colorado Foundation for Families and Children is conducting a process evaluation that will help to identify key elements of an effective truancy program.

The current grantees (Honolulu, HI; Houston, TX; Jacksonville, FL; King County, WA; Martinez, CA; Tacoma, WA; and Yaphank, NY) will continue to carry out the truancy activities. No additional applications will be solicited in FY 2002.

Strengthening the Juvenile Justice System

Accountability-Based Training for Staff in Juvenile Confinement Facilities

The Accountability-Based Training for Staff in Juvenile Confinement Facilities program, provided through the National Juvenile Detention Association's (NJDA's) Center for Research and Professional Development (CRPD), offers extensive training that enhances the ability of staff in juvenile confinement facilities around the country to handle and care for confined youth. OJJDP has funded this program for 6 years to enable staff working in secure facilities to avail themselves of state-of-the-art training. With OJJDP's support, CRPD has provided more than 101,600 training hours to line staff in juvenile justice facilities and programs in 33 States. In addition to training through CRPD, NJDA provides comprehensive technical assistance to State and local juvenile detention centers that are experiencing problems with their operations.

During FY 2002, CRPD will continue to provide onsite training and technical assistance to direct care staff in juvenile confinement and custody facilities with the existing materials and curriculums. CRPD also will develop and pilot a new 40-hour curriculum, “BARJ-ing into Juvenile Confinement: Practical Application of BARJ [Balanced And Restorative Justice] Principles for Line Staff'; develop advanced training curriculums in the areas of suicide prevention and management of mentally ill residents; and revise the curriculum for juvenile detention careworkers.

This project will be implemented by the current grantee, the National Juvenile Detention Association, Center for Research and Professional Development. No additional applications will be solicited in FY 2002.

Balanced and Restorative Justice

OJJDP established the Balanced and Restorative Justice (BARJ) training and technical assistance project in FY 1992 by awarding funds to Florida Atlantic University to provide training, technical assistance, and guidelines on implementing the BARJ model, which encourages the juvenile justice system to address three goals equally: (1) Ensuring community safety, (2) holding offenders accountable to victims, and (3) promoting competency development for offenders in the juvenile justice system so they are equipped to pursue noncriminal lines of work after release. The project is national in scope. However, to use limited resources efficiently, BARJ technical assistance works with seven “special emphasis” States (California, Florida, Illinois, Michigan, New York, Pennsylvania, and Texas) and with several local jurisdictions across the Nation to help them plan and implement BARJ. The project also works with key justice system and community leaders to clarify BARJ concepts and to seek their help in advancing BARJ goals and activities.

In FY 2001, the BARJ project developed, helped organize, or participated in more than 40 major training and technical assistance events on restorative justice. BARJ roundtables provided training and technical assistance to teams of juvenile justice managers and practitioners from the seven special emphasis States. In addition, the project has updated its instructional materials for the BARJ courses and produced new reference publications on restorative justice. The project also publishes a quarterly BARJ newsletter, Kaleidoscope of Justice.

In FY 2002, the BARJ project will conduct the BARJ Academy workshops, the introduction to restorative justice and training for trainers courses, and a graduate BARJ trainers conference. The project will develop new training courses on restorative justice in schools, training of trainers for group conferencing, and strategic BARJ management. One or more specialized workshops on selected BARJ topics are also planned. The project plans to present workshops at national and regional conferences sponsored by groups representing judges, prosecutors, probation and corrections personnel, law enforcement, victims advocates, child welfare practitioners, and others. Resource documents will be developed, and the program's existing training materials and Web site will be updated.

This project will be implemented by the current grantee, the Florida Atlantic University. No additional applications will be solicited in FY 2002.

Census of Juveniles in Residential Placement

The Census of Juveniles in Residential Placement (CJRP) collects individual-level data on all juveniles in residential placement on a specific reference day (the fourth Wednesday in October). The data elements collected include each offender's age, sex, race, placing agency, legal status, and most serious offense. Because this project is a census, it allows for State-level reporting of juveniles in residential placement. The census is mailed to all facilities that can and do hold juvenile offenders for reasons of the offense. Personnel report on all offenders younger than 21 years old residing in their facilities on the reference day. The facilities also provide some basic information on any other persons who do not fit these criteria. CJRP was first conducted in October 1997 and again in October 1999. In 2002, the Census Bureau will continue to conduct the work of the 2001 CJRP, including data collection, data editing, data inputting, and data file preparation.

This program will be implemented through an existing interagency agreement with the Bureau of the Census. No additional applications will be solicited in FY 2002.

Center for Students With Disabilities in the Juvenile Justice System

During FY 1999, OJJDP undertook a joint initiative with the Office of Special Education and Rehabilitative Services, U.S. Department of Education, to establish a Center for Students With Disabilities in the Juvenile Justice System. This project is expected to improve the juvenile justice system's services for students with disabilities in the areas of prevention, educational services, and reintegration based on a combination of research, training, and technical assistance. The Center guides and assists States, schools, juvenile justice programs, families, and communities in designing, implementing, and evaluating comprehensive educational programs, based on research-validated practices, for students with disabilities in the juvenile justice system.

This program will be implemented under an existing 5-year interagency agreement with the U.S. Department of Education by the current grantee, the University of Maryland. No additional applications will be solicited in FY 2002.

Improving Juvenile Sanctioning: An Intensive Training and Technical Assistance Delivery Program

The purpose of this program is to improve the capacity of the juvenile justice system by providing intensive training and technical assistance to at least 10 selected jurisdictions to strengthen and enhance existing juvenile accountability-based sanctioning programs and to support development of new ones, within the context of community-based programs that support competency development in youth. The primary target population for this program is youthful offenders who could be referred by law enforcement, schools, or juvenile courts to community-managed alternatives to detention and secure confinement. The program's goal is to create or improve juvenile accountability-based programs at the front end of the continuum, while enhancing the competencies and skills of youth and strengthening the juvenile justice system's capability to respond appropriately to delinquent behavior.

This project, initially funded in FY 2001 through a competitive solicitation, is designed as a 5-year project.

This program will be implemented by the current grantee, the National Council of Juvenile and Family Court Judges. No additional applications will be solicited in FY 2002.

Intensive Community-Based Juvenile Aftercare Dissemination and Technical Assistance Program

This initiative supports replication of, training and technical assistance for, and information dissemination about the Intensive Aftercare Program (IAP) model, which was implemented in three competitively selected demonstration sites. The overall goal of the IAP model is to identify and assist adjudicated juvenile offenders who are in secure confinement to make a successful transition to the community upon release. An independent evaluation of the IAP demonstration is currently underway, with a final report due in the winter of 2002.

As the demonstration period for the three pilot sites has ended, the focus of this initiative has shifted to six distinct areas: (1) Replication of the model with emphasis on specialized youth populations, (2) linkage with select Performance-Based Standards correctional sites, (3) provision of technical assistance to DOL's Youth Offender Demonstration sites, (4) provision of technical assistance to select Boys & Girls Clubs sites participating in OJJDP's Gang Prevention Through Targeted Outreach initiative, (5) creation of a national juvenile reintegration and aftercare center, and (6) creation of a new Web site.

This initiative will be implemented by the current grantee, the Johns Hopkins University. No additional applications will be solicited in FY 2002.

James E. Gould Memorial Program for Training and Technical Assistance for Juvenile Corrections and Detention

OJJDP established the Training and Technical Assistance Program for Juvenile Corrections and Detention staff 16 years ago by funding the American Correctional Association (ACA) to provide leadership to the juvenile justice field through training and technical assistance to staff working in juvenile corrections, detention, community residential, and nonresidential facilities. ACA conducts an annual National Juvenile Corrections and Detention Forum on behalf of OJJDP. In addition to the forums, ACA developed a curriculum addressing increased privatization in the field of juvenile justice and conducted three regional privatization workshops on writing requests for proposals, writing good contracts, and monitoring contracts. ACA publishes articles on juvenile justice topics in each issue of its Corrections Today magazine and recently published a monograph and a curriculum on privatization. ACA also provides technical assistance to juvenile justice professionals concerning detention and corrections issues.

In FY 2002, the project will continue to coordinate with other national juvenile justice organizations to provide technical assistance to juvenile justice agencies and will hold the 17th annual National Juvenile Corrections and Detention Forum. ACA will update mailing lists of both public and private juvenile facilities and develop a listserv and Internet service to enhance knowledge and facilitate sharing of information among juvenile justice detention and corrections professionals. Texts, papers, monographs, and related juvenile corrections and detention resource materials will be developed and disseminated to the juvenile justice community. Three 3-day regional workshops on issues related to privatization and two 1-day national workshops that address needs and trends in juvenile corrections and detention will be held.

This project will be implemented by the current grantee, the American Correctional Association. No additional applications will be solicited in FY 2002.

Juvenile Justice Prosecution Unit

OJJDP supports the Juvenile Justice Prosecution Unit's (JJPU's) training and technical assistance program for prosecutors under a grant to the American Prosecutors Research Institute (APRI), which was first awarded in FY 1995. JJPU develops and presents training workshops to chief prosecutors, juvenile unit chiefs, and deputy district attorneys assigned to juvenile courts. The training deals with leadership roles of prosecutors in the juvenile justice system, handling of juvenile delinquency cases, and significant juvenile justice issues that are of concern to prosecutors. Approximately six training workshops are held annually, and curriculums and appropriate reference materials are developed for each training event.

In FY 2001, APRI developed and presented two workshops on disproportionate minority confinement (DMC); conducted five JUMPSTART courses for newly assigned juvenile prosecutors, several short workshops at the National Juvenile Justice Conference, a course on juvenile justice prosecution for prosecutor coordinators, and a serious and violent offender workshop; and created two new workshops for prosecutors on balanced and restorative justice and interdisciplinary issues. The training and technical assistance materials developed by APRI include curriculums and topical resource guides for the courses offered. In addition, APRI developed a Web page, continued updating the Compendium of Juvenile Programs for Prosecutors, and produced four In Re newsletters.

In FY 2002, APRI will provide training (including two new courses) and technical assistance to new groups of prosecutors. APRI will provide a Webcast for prosecutors, conduct five JUMPSTART courses, and present a juvenile justice prosecution track at the National Juvenile Justice Conference. The project will continue updating its training curriculums and materials, including its Web page, and preparing new training and resource documents. The project also will keep prosecutors informed on developments in restorative justice and expand the Compendium of Juvenile Programs for Prosecutors as new programs are reported from the field.

This project will be implemented by the current grantee, the American Prosecutors Research Institute. No additional applications will be solicited in FY 2002.

Juvenile Residential Facility Census

OJJDP designed the Juvenile Residential Facility Census (JRFC) to collect important information on facility characteristics, services provided to residents in the facility, and the conditions within the facility. Similar to the Census of Juveniles in Residential Placement, JRFC is a biennial census of residential facilities used by the juvenile justice system to hold youth accused of or adjudicated for an offense. The data collection forms are mailed to each facility for personnel to complete. The JRFC collects information on the availability of health care services, mental health counseling or treatment, substance abuse treatment, and education and on youth's access to the particular services they need. The JRFC also asks specific questions about the nature of the facility itself, specifically about the conditions of confinement, the number of beds used (including makeshift beds), and the use of isolation or restraints. Finally, the JRFC collects information on any deaths in custody, a subject on which OJJDP must report annually. The first full JRFC was conducted in October 2000. In FY 2002, the Census Bureau will prepare for the second full implementation of the JRFC, mail out the necessary forms, and begin full data collection.

This project will be conducted through an interagency agreement with the Bureau of the Census, Governments Division and Statistical Research Division. No additional applications will be solicited in FY 2002.

Longitudinal Study To Examine the Development of Conduct Disorder in Girls

The purpose of this project, which is being funded under an FY 1999 interagency agreement between OJJDP and the National Institute of Mental Health, is to examine the development of conduct disorder in a sample of 2,500 inner-city girls who are ages 6-8 at the beginning of the study. The study will follow the girls annually for 5 years and will provide information that is critical to the understanding of the etiology, comorbidity, and prognosis of conduct disorder in girls. Delinquency in girls has been steadily increasing over the past decade, and a better understanding of developmental processes in girls will help identify effective means of prevention and provide direction for juvenile justice responses to delinquent girls. In FY 2002, the program will continue data collection.

The project will be implemented by the current grantee, the University of Pittsburgh. No additional applications will be solicited in FY 2002.

Meta-Analysis Project

In FY 2001, Vanderbilt University began a program to update a significant existing database of juvenile justice program evaluations and to provide various meta-analyses of the data for OJJDP. Meta-analysis is defined as “a statistical analysis that combines or integrates the results of several independent clinical trials considered by the analyst to be combinable.”¹ This technique creates a larger research framework to make broad generalizations about, for example, the impact of specific types of interventions on different types of outcomes. Meta-analysis allows for the results of small, weak, and/or methodologically flawed studies to be combined and reanalyzed. Vanderbilt University has created a database that contains data from more than 500 published and unpublished studies of programs involving a wide range of treatments and services. Each study is codified using 156 variables, including characteristics of the study, types of interventions, and measures of outcomes.

¹ Huque, M.F. 1988. Experiences with meta-analysis in NDA submissions. Proceedings of the Biopharmaceutical Section of the American Statistical Association 2:28-33.

In FY 2001, the project was updated to include approximately 100 new studies that were completed in the past several years. In FY 2002, the study will expand the analysis to include different measures of outcomes and recidivism. The resulting series of reports will be made available to juvenile justice practitioners and policymakers.

This program will be implemented by the current grantee, Vanderbilt University. No additional applications will be solicited in FY 2002.

National Census and Survey of Juvenile Probation

In FY 2001, OJJDP entered into an interagency agreement with George Mason University (GMU) to develop and test a new survey and census of juvenile probation. OJJDP worked with the U.S. Bureau of the Census's Center for Survey Methods Research to develop this project; the GMU team will complete the work. The project consists of developing questionnaires for both a census and a survey of juvenile probation. GMU will also fully test the questionnaires in cooperation with the data collection agency, the U.S. Bureau of the Census.

This project will be conducted through an interagency agreement with George Mason University. No additional applications will be solicited in FY 2002.

National Evaluation of the Performance-based Standards Project

OJJDP funded the National Academy of Public Administration (NAPA) to conduct an independent evaluation of OJJDP's Performance-based Standards (PbS) Project. This formative evaluation provides feedback to the PbS project development team on how to improve the program design and implementation supports to the sites. The evaluation is collecting both quantitative and qualitative data describing the processes used to implement the PbS model in 80 juvenile detention and correctional facilities across the country. To date, the evaluator has completed a chronicle that tracks major program decisions and improvements. In addition to conducting two all-site surveys, the evaluator also has contributed to the conceptualization and design of key program elements, including the Program Monitoring System, the expansion of the program to reintegration outcomes, and the migration of the project to integrate with agencies' management information systems (MISs), and has developed materials for meeting privacy and human subjects issues. A new focus of the evaluation is to develop six case studies to capture in depth the process of a facility's journey from initiation to institutionalization of PbS in its day-to-day operations.

As the PbS project expands in FY 2002 to include community-based correctional functions and deals with the launching of an MIS integrated system, it will be necessary to continue to independently review the work, both to chronicle its development and to capture, through the case studies and surveys, how the innovations are being carried out in the field.

This project will be implemented by the current grantee, the National Academy of Public Administration. No additional applications will be solicited in FY 2002.

National Juvenile Justice Data Analysis Project

First funded in FY 1999 under a competitive process, the National Juvenile Justice Data Analysis Project (NJJDAP) provides research into and analysis of a wide variety of juvenile justice issues, including juvenile placement, custody, arrests, victimization, and juvenile offending. However, the topics of interest to juvenile professionals are not limited to these issues. As research expands, the field learns more about the intersections of delinquency and other problems, such as mental health disorders, education needs, and physical injury. Attention to these problems can help the field design effective prevention or intervention measures and identify what problems the juvenile justice system will face in dealing with delinquent youth. NJJDAP will examine such issues of concern through cooperation with experts in the fields of interest and with data collected in those fields. This project produces quick, unique analyses of these issues for publication by OJJDP.

In FY 2002, NJJDAP will expand its roster of available consultants who can provide either expertise in data analysis or knowledge of particular aspects of adolescent development, juvenile delinquency, or the juvenile justice system. NJJDAP will also investigate innovative data sets at the State and local levels.

This project will be implemented by the current grantee, the National Center for Juvenile Justice. No additional applications will be solicited in FY 2002.

National Juvenile Justice Program Directory

To conduct statistical projects, OJJDP and the Census Bureau require a support infrastructure that enables both to perform the necessary survey tasks efficiently and effectively. This infrastructure includes as a basic component the maintenance of a list or frame of all survey or sampling units. For example, the surveying of residential facilities could not take place without a list of such facilities. Indeed, as OJJDP moves toward surveying these facilities once a year, this list must be maintained continuously. Also, as the Office moves toward surveying juvenile probation offices, OJJDP and the Census Bureau will need a current list of all such offices in the United States. Other areas of interest might include juvenile courts, police departments, and State agencies. Maintenance of the lists includes contacting various key State and local officials or practitioners, who can provide the names of agencies or facilities associated with their respective agencies. It also requires maintaining current contact information for these agencies or facilities. Finally, it requires developing and updating a database of these facilities that contains information necessary for sampling or stratification purposes. This project fills the needs for lists of juvenile agencies, programs, and facilities.

This project will be conducted through an interagency agreement with the Bureau of the Census, Governments Division. No additional applications will be solicited in FY 2002.

National Juvenile Sex Offenders Training Project

The purpose of this program is to develop and deliver training to police, intake workers, school counselors, detention line staff, judges, prosecutors, and other juvenile justice personnel to increase the accuracy of information in the field about juvenile sex offending. The availability of accurate information will lead to improved prevention, intervention, and treatment services for the youth population. The dissemination of knowledge that specifically deals with juvenile sex offender issues will help ensure that the drafting and implementation of any policy or legislation on this issue are based on accurate and timely information, focus on juvenile offenders, and use juvenile-based research rather than adult research, which is often erroneously applied to young people.

Project staff and other subject matter experts within the Office of Justice Programs will collaborate to develop a matrix that identifies and categorizes the major portals of entry (e.g., youth-serving agencies and organizations, schools) for children with sexual behavior problems and juvenile sex offenders. In the first year of this project, training goals and objectives will be developed and curriculums will be written in collaboration with juvenile justice personnel. The next step will establish the priority for testing and delivering training to the range of personnel working with sex offending youth. In the final year of the project, it is anticipated that curriculums will have been developed for all identified portals of entry that work with juvenile sex offenders and current knowledge will have been disseminated that impacts the ongoing treatment and handling of these youth.

This program will be implemented by the current grantee, the University of Oklahoma. No additional applications will be solicited in FY 2002.

National Longitudinal Survey of Youth

Since 1997, OJJDP has supported the U.S. Department of Labor's Bureau of Labor Statistics (BLS) as it conducts the National Longitudinal Survey of Youth (NLSY). Using a nationally representative sample, the survey questions youth who were in the eighth grade in 1997 about their school experiences, family background, and employment. NLSY will provide critical information on these young people's transition from school to work. With OJJDP support, BLS includes a wide battery of questions on delinquency (such as theft and assault) and problem behaviors (such as alcohol and tobacco use). Because the NLSY follows the same youth each year, the data from this effort will provide important national information on the onset of delinquency, trends in offending, and correlation with other factors such as family, school, and health. So far, the NLSY project has collected four waves of data (one each year). The fourth wave will be released in 2002. OJJDP expects to continue contributing to this effort until the sampled youth have reached young adulthood.

This project will be conducted through an interagency agreement with the Bureau of Labor Statistics. No additional applications will be solicited in FY 2002.

National Training and Technical Assistance for Effective Juvenile Detention and Corrections Practices

Since FY 1996, OJJDP has funded the National Juvenile Detention Association's (NJDA's) National Training and Technical Assistance for Effective Juvenile Detention and Corrections Practices project (Overcrowding Project) to combat overcrowding in the Nation's juvenile detention facilities. The Overcrowding Project is an intensive, onsite training and technical assistance program that assists selected jurisdictions in reducing overcrowding in their juvenile detention facilities. NJDA and the Youth Law Center, a partner in the project, have considerable experience with juvenile facility overcrowding. The original Overcrowding Project is being broadened significantly to include a greater emphasis on capacity building to achieve meaningful systemic reform and to incorporate nationally recognized operational “best practices” within juvenile confinement facilities.

Accomplishments during previous grant years included (1) providing intensive technical assistance to Camden County, NJ; Oklahoma County, OK; Santa Cruz County, CA; and the States of Rhode Island and South Carolina and (2) providing technical assistance to juvenile detention or corrections systems in Arkansas, Illinois, Louisiana, Michigan, Nebraska, Nevada, and Ohio. In addition, the project developed and delivered a jurisdictional team training curriculum on overcrowding to five jurisdictions. It also helped develop and produce OJJDP's national videoconference on overcrowding in juvenile detention facilities and eight major training and technical assistance documents.

During FY 2002, the Overcrowding Project will expand its focus to address broader systemic issues through delivery of intensive technical assistance to six to eight new jurisdictions. This effort will be supported by a partnership with OJJDP and the Annie E. Casey Foundation, which will focus on development of a strategy for initiating a national juvenile detention reform movement. The project also will coordinate with and complete intensive technical assistance to the West Virginia Division of Juvenile Justice.

This project will be implemented by the current grantee, the National Juvenile Detention Association. No additional applications will be solicited in FY 2002.

Performance-based Standards Project

To date, the Performance-based Standards (PbS) project has developed an integrated set of goals, performance standards, outcome measures, and implementation tools to help facilities improve in six key areas of operations: safety, order, security, programming, health/mental health, and justice. Participating sites submit data on 96 outcome measures at 6-month intervals via a secure Internet Web site (www.performance-standards.org), and the results are fed back to the PbS sites within a month of data closeout. The Council of Juvenile Correctional Administrators (CJCA) has worked very closely with the juvenile corrections field in developing and testing a program that focuses on accountability, performance, and attainment of measurable goals. Currently, more than 80 juvenile detention and correctional facilities from 23 States are participating in the PbS project. Five State youth corrections agencies are implementing PbS agencywide.

FY 2002 funding will support implementation of significant innovations in the program that have been under design, development, and testing during the past 2 years. Full implementation will include revisions of the data collection instruments for youth and staff, specifically the incorporation of survey items that track the national Survey of Youth in Residential Placement; implementation of the reintegration standards and outcome measures currently being tested in three States; and testing and implementation of an MIS-integrated system that will allow facilities to track performance on a daily basis, rather than at 6-month intervals, as is currently the case. In addition, the scope of the project will expand to include community-based correctional functions as an extension of the work on reintegration standards and also will enable the project to increase the number of participating sites.

This project will be implemented by the current grantee, the Council of Juvenile Correctional Administrators. No additional applications will be solicited in FY 2002.

Survey of Youth in Residential Placement

The first national Survey of Youth in Residential Placement (SYRP) will interview a sample of 10,000 youth in residential placement. It will be conducted in March and April 2003 and will use audio-assisted computerized interviews. The survey will collect critical research information on youth history with the justice system, family life, education, and current treatment needs.

SYRP will follow up on the FY 1998 Planning for the Survey of Youth in Residential Placement cooperative agreement with Westat, Inc. That project developed the data collection instrument, the sampling scheme, and an analysis plan. The planning project also extensively tested the questions used in the instrument, the computer-assisted interviewing method, and the complete instrument and survey methodology in a sample of 40 facilities in a specific geographic region of the country. The new project will implement the finalized Audio-Computer Assisted Survey Instrument (A-CASI) and produce a report based on the data collected.

This project will be implemented by the current grantee, Westat, Inc. No additional applications will be solicited in FY 2002.

Systems Improvement Training and Technical Assistance

In FY 2000, OJJDP continued funding to the Institute for Educational Leadership (IEL) for training and technical assistance programs that strengthen and sustain the capacity of SafeFutures and Safe Kids/Safe Streets demonstration sites and selected other communities to assist them with changing their systems. The project seeks to help sites (1) address their system goals and effectively address challenges, (2) educate and inform other communities and the juvenile justice field about how they can more effectively pursue community-based systems reform, (3) enhance the skills of community and staff leadership so they can better sort through the complexities of systems reform, and (4) build the overall capacity of the selected sites to engage in strategic planning, develop policies and programs, and build community collaboratives to address specific substantive challenges and achieve measurable results.

Since the project was awarded, IEL has established a pool of consultants with expertise in systems improvement; developed useful resources for communities addressing issues critical to systems improvement, including using data effectively, achieving sustainability, and building consumer capacity and cultural competence; and provided assistance to several OJJDP comprehensive initiatives.

In FY 2002, OJJDP will continue to fund the project to further assist selected OJJDP grantee communities interested in systems reform and change and to continue disseminating “lessons learned” to other communities.

This project will be implemented by the current grantee, the Institute for Educational Leadership. No additional applications will be solicited in FY 2002.

Training Programs for Juvenile Justice Professionals in Corrections and Detention

The Training Programs for Juvenile Justice Professionals in Corrections and Detention, provided by the National Institute of Corrections (NIC) through an interagency agreement funded by OJJDP, was established in 1990. NIC provides a variety of training and technical assistance, primarily geared toward supervisors and administrators who work in the juvenile justice system. NIC offers comprehensive training courses at its academy in Longmont, CO, and at various sites around the country. The training program is designed to enhance professional development and leadership skills of juvenile justice corrections and detention administrators and supervisors. Through this interagency agreement, training is also offered on critical elements of aftercare, services and programs for juvenile female offenders, restorative justice, curriculum design and development, and training for juvenile justice agency training coordinators and directors. NIC also provides training for newly appointed chief executive officers of juvenile justice corrections agencies and new facility directors.

In FY 2002, NIC will continue to support standards for training juvenile justice professionals through its Juvenile Justice Training Academy project. This project will also provide technical assistance to enhance existing academies and training programs. NIC will conduct several regional training sessions and will provide national training and workshops at its academy during FY 2002.

This project will be implemented through an interagency agreement between OJJDP and the National Institute of Corrections. No additional applications will be solicited in FY 2002.

Training and Technical Assistance for National Innovations To Reduce Disproportionate Minority Confinement

States participating in the Formula Grants Program are required to determine whether the proportion of minorities in confinement exceeds their proportion in the population and, if so, demonstrate efforts to reduce it. Research and Evaluation Associates (REA) is one of several Office of Juvenile Justice and Delinquency Prevention (OJJDP) grantees with responsibility for support of the Disproportionate Minority Confinement (DMC) requirement. This project, funded in FY 2001, follows a 3-year grant that supported development of a curriculum for policymakers and practitioners on DMC issues.

In FY 2001, REA developed a set of strategic tools and materials to assist jurisdictions to address this issue and managed delivery of intensive technical assistance to five selected States (Delaware, Kentucky, Massachusetts, New Mexico, and South Carolina). In working with the five States, project staff established a protocol for the delivery of technical assistance in response to DMC issues, which will help States identify and prioritize interventions that provide both an immediate and a long-term impact on DMC.

In FY 2002, the grantee's activities will include identifying and training consultants to support the expansion of the intensive technical assistance, evaluating the use of the protocol in technical assistance delivery, conducting a DMC training of trainers, updating the DMC Web site, and continuing to develop strategies and approaches that will aid in implementing and monitoring the DMC effort.

This project will be implemented by the current grantee, Research and Evaluation Associates. No additional applications will be solicited in FY 2002.

Tribal Youth Training and Technical Assistance Program

The Tribal Youth Training and Technical Assistance Program was established in FY 1997 to provide tribal governments with the information and tools necessary to enhance or develop comprehensive, system-wide approaches to reduce juvenile delinquency, violence, and child victimization and to increase the safety of Indian communities. To date, the program has provided training and technical assistance to over 700 individuals involved with the improvement, well-being, community development, and program design and implementation of juvenile justice systems.

In FY 2002, the Tribal Youth Training and Technical Assistance Program will provide the following services: (1) Plan and provide support for a national meeting of 40 Tribal Youth Program (TYP) grants; (2) plan and provide support for 1 cluster training of 40 TYP grants and develop a TYP closeout technical assistance plan; (3) provide on-site technical assistance for up to 25 TYP grantees; (4) provide monthly mailings of all TYP-related updates, announcements, and publications; (5) provide national distribution of the technical Bulletin and develop the TYP Web site; (6) print and distribute 1,200 copies of TYP Promising Practices; (7) develop a national database for all Alaskan and Native American tribes; (8) and conduct 1 focus group meeting on a special topic.

A new solicitation will be issued and a grant awarded through a competitive process in FY 2002.

Child Abuse and Neglect and Dependency Courts

Evaluation of the Parents Anonymous® Program

In FY 2001, OJJDP began this project through a competitive process to evaluate the Parents Anonymous® program. Parents Anonymous, Inc., is a national child abuse prevention program dedicated to family strengthening in partnership with local communities. The purpose of the evaluation is to assess the implementation and effectiveness of the Parents Anonymous® program in preventing and treating child abuse and neglect. The National Council on Crime and Delinquency is conducting this evaluation in two phases. Phase I is an ongoing process evaluation that is investigating how the theoretical premises, principles, best practices, and model of Parents Anonymous® are operationalized in a sample of programs selected by the evaluator. Phase II will present a preliminary approach to conducting the outcome evaluation of the selected programs. This phase will include a detailed discussion of the overall design of the outcome evaluation and methods for selecting programs and comparison groups, designing and testing data collection instruments, and collecting and analyzing data.

This project will be implemented by the current grantee, the National Council on Crime and Delinquency. No additional applications will be solicited in FY 2002.

National Evaluation of the Safe Kids/Safe Streets Program

OJJDP will continue funding the grant competitively awarded in FY 1997 to Westat, Inc., Rockville, MD, for the National Evaluation of the Safe Kids/Safe Streets Program. The evaluation has three main goals: (1) To document and explicate the process of community mobilization, planning, and collaboration taking place before and during the Safe Kids/Safe Streets award; (2) to inform program staff of performance levels on an ongoing basis; and (3) to determine the effectiveness of the implemented programs in achieving the goals of the Safe Kids/Safe Streets Program. The initial 18-month grant began a process evaluation and a feasibility study for a future impact evaluation. With FY 2001 funding, Westat continued the process evaluation, which focuses on tracking the implementation efforts at each of the sites, and continued working with local evaluators to develop their skills and capacity for program evaluation. With funding in FY 2002, Westat will continue the impact evaluation, which includes a pilot study of its proposed case tracking procedure.

This evaluation will be implemented by the current grantee, Westat, Inc. No additional applications will be solicited in FY 2002.

Research on Child Neglect

This project is a collaborative effort of several Federal agencies concerned with research in the area of child abuse and neglect. The National Institutes of Health Child Abuse and Neglect Working Group (CANWG) is a consortium of Federal agencies that was formed in 1997. CANWG's goals are to assess the state of the science in child abuse and neglect, make recommendations for a research agenda, and develop plans for future coordination efforts across Federal agencies and institutes. In 1998, OJJDP joined CANWG to participate in funding a research program focused specifically on child neglect. OJJDP funds are supporting two research projects within the overall CANWG research program.

This project will be implemented through the current interagency agreement with the National Institutes of Health Child Abuse and Neglect Working Group. No additional applications will be solicited in FY 2002.

Safe Kids/Safe Streets: Community Approaches to Reducing Abuse and Neglect and Preventing Delinquency

This five and a half-year demonstration is designed to break the cycle of early childhood victimization and later delinquency and criminality by reducing child and adolescent maltreatment. Several components of the Office of Justice Programs joined in FY 1996 to develop this coordinated community response program. These components provide fiscal and technical support for local efforts to restructure and strengthen the justice system and the child welfare, family services, education, health, and related systems to be more comprehensive and proactive in helping children, adolescents, and their families. Safe Kids requires the five funded sites to develop, implement, and/or expand cross-agency strategies and to partner with natural networks in their communities. OJJDP awarded competitive cooperative agreements in FY 1997 to Chittenden County, VT; Huntsville, AL; Kansas City, MO; the Sault Ste. Marie Tribe of Chippewa Indians, MI; and Toledo, OH. Funds were provided by OJJDP, the Executive Office for Weed and Seed, and the Violence Against Women Office. FY 2002 is the fifth year of the demonstration project period.

This demonstration will continue to be implemented in FY 2002 by the current grantees: Chittenden County, VT; Huntsville, AL; Kansas City, MO; the Sault Ste. Marie Tribe of Chippewa Indians, MI; and Toledo, OH. No additional applications will be solicited in FY 2002.

Dated: May 30, 2002.
J. Robert Flores,
Administrator, Office of Juvenile Justice and Delinquency Prevention.

[FR Doc. 02-14003 Filed 6-4-02; 8:45 am]

BILLING CODE 4410-18-P